DEPARTMENT OF COMMERCE

Office of the Secretary

13 CFR Ch. III

15 CFR Subtitle A; Subtitle B, Chs. I, II, III, VII, VIII, IX, and XI

19 CFR Ch. III

37 CFR Chs. I, IV, and V

48 CFR Ch. 13

50 CFR Chs. II, III, IV, and VI

Fall 2011 Semiannual Agenda of Regulations

AGENCY: Office of the Secretary, Commerce.

ACTION: Semiannual regulatory agenda.

SUMMARY: In compliance with Executive Order 12866, entitled “Regulatory Planning and Review,” and the Regulatory Flexibility Act, as amended, the Department of Commerce (Department), in the spring and fall of each year, publishes in the Federal Register an agenda of regulations under development or review over the next 12 months. Rulemaking actions are grouped according to prerulemaking, proposed rules, final rules, long-term actions, and rulemaking actions completed since the spring 2011 agenda. The purpose of the agenda is to provide information to the public on regulations that are currently under review, being proposed, or issued by the Department. The agenda is intended to facilitate comments and views by interested members of the public.

The Department's fall 2011 regulatory agenda includes regulatory activities that are expected to be conducted during the period October 1, 2011 through September 30, 2012.

FOR FURTHER INFORMATION CONTACT: Specific: For additional information about specific regulatory actions listed in the agenda, contact the individual identified as the contact person.

General: Comments or inquiries of a general nature about the agenda should be directed to Asha Mathew, Chief Counsel for Regulation, Office of the Assistant General Counsel for Legislation and Regulation, U.S. Department of Commerce, Washington, DC 20230, telephone: 202 482-3151.

SUPPLEMENTARY INFORMATION: The Department hereby publishes its fall 2011 Unified Agenda of Federal Regulatory and Deregulatory Actions pursuant to Executive Order 12866 and the Regulatory Flexibility Act, 5 U.S.C. 601 et seq. Executive Order 12866 requires agencies to publish an agenda of those regulations that are under consideration pursuant to this order. By memorandum of June 30, 2011, the Office of Management and Budget issued guidelines and procedures for the preparation and publication of the fall 2011 Unified Agenda. The Regulatory Flexibility Act requires agencies to publish, in the spring and fall of each year, a regulatory flexibility agenda that contains a brief description of the subject of any rule likely to have a significant economic impact on a substantial number of small entities, and a list that identifies those entries that have been selected for periodic review under section 610 of the Regulatory Flexibility Act.

In this edition of the Department's regulatory agenda, a list of the most important significant regulatory actions and a Statement of Regulatory Priorities are included in the Regulatory Plan, which appears in both the online Unified Agenda and in part II of the issue of the Federal Register that includes the Unified Agenda.

In addition, beginning with the fall 2007 edition, the Internet became the basic means for disseminating the Unified Agenda. The complete Unified Agenda is available online at www.reginfo.gov, in a format that offers users a greatly enhanced ability to obtain information from the Agenda database.

Because publication in the Federal Register is mandated for the regulatory flexibility agendas required by the Regulatory Flexibility Act, the Department's printed agenda entries include only:

(1) Rules that are in the Agency's regulatory flexibility agenda, in accordance with the Regulatory Flexibility Act, because they are likely to have a significant economic impact on a substantial number of small entities; and

(2) Rules that the Agency has identified for periodic review under section 610 of the Regulatory Flexibility Act.

Printing of these entries is limited to fields that contain information required by the Regulatory Flexibility Act's Agenda requirements. Additional information on these entries is available in the Unified Agenda published on the Internet. In addition, for fall editions of the Agenda, the Department's entire Regulatory Plan will continue to be printed in the Federal Register.

Within the Department, the Office of the Secretary and various operating units may issue regulations. These operating units, the National Oceanic and Atmospheric Administration (NOAA), the Bureau of Industry and Security, and the Patent and Trademark Office, issue the greatest share of the Department's regulations.

A large number of regulatory actions reported in the Agenda deal with fishery management programs of NOAA's National Marine Fisheries Service (NMFS). To avoid repetition of programs and definitions, as well as to provide some understanding of the technical and institutional elements of NMFS' programs, an “Explanation of Information Contained in NMFS Regulatory Entries” is provided below.

Explanation of Information Contained in NMFS Regulatory Entries

The Magnuson-Stevens Fishery Conservation and Management Act (16 U.S.C. 1801 et seq.) (the Act) governs the management of fisheries within the Exclusive Economic Zone of the United States (EEZ). The EEZ refers to those waters from the outer edge of the State boundaries, generally 3 nautical miles, to a distance of 200 nautical miles. Fishery Management Plans (FMPs) are to be prepared for fisheries that require conservation and management measures. Regulations implementing these FMPs regulate domestic fishing and foreign fishing where permitted. Foreign fishing may be conducted in a fishery in which there is no FMP only if a preliminary fishery management plan has been issued to govern that foreign fishing. Under the Act, eight Regional Fishery Management Councils (Councils) prepare FMPs or amendments to FMPs for fisheries within their respective areas. In the development of such plans or amendments and their implementing regulations, the Councils are required by law to conduct public hearings on the draft plans and to consider the use of alternative means of regulating.

The Council process for developing FMPs and amendments makes it difficult for NMFS to determine the significance and timing of some regulatory actions under consideration by the Councils at the time the semiannual regulatory agenda is published.

The Department's fall 2011 regulatory agenda follows.

Cameron F. Kerry,
General Counsel.

International Trade Administration—Long-Term Actions
Sequence No. | Title | Regulation Identifier No.
204 | Commercial Availability of Fabric and Yarn | 0625-AA59

National Oceanic and Atmospheric Administration—Proposed Rule Stage
Sequence No. | Title | Regulation Identifier No.
205 | Fishery Management Plan for Regulating Offshore Marine Aquaculture in the Gulf of Mexico (Reg Plan Seq No. 22) | 0648-AS65
206 | American Lobster Fishery; Fishing Effort Control Measures To Complement Interstate Lobster Management Recommendations by the Atlantic States Marine Fisheries Commission | 0648-AT31
207 | Collection and Use of Tax Identification Numbers From Holders of and Applicants for National Marine Fisheries Service Permits | 0648-AV76
208 | Marine Mammal Protection Act Stranding Regulation Revisions | 0648-AW22
209 | Fisheries Off West Coast States and in the Western Pacific; Klamath River Fall Chinook Salmon Rebuilding Plan | 0648-AY06
210 | Amendment 3 to the Spiny Dogfish Fishery Management Plan | 0648-AY12
211 | Generic Amendment for Annual Catch Limits | 0648-AY22
212 | Amendment 14 to the Atlantic Mackerel, Squid, and Butterfish Fishery Management Plan | 0648-AY26
213 | Fisheries in the Western Pacific; Pelagic Fisheries; Purse Seine Fishing With Fish Aggregation Devices | 0648-AY36
214 | Amendment 5 to the Atlantic Herring Fishery Management Plan | 0648-AY47
215 | Amendment 2 to the FMP for the Queen Conch Fishery of Puerto Rico and the U.S. Virgin Islands and Amendment 5 to the Reef Fish FMP of Puerto Rico and the U.S. Virgin Islands | 0648-AY55
216 | Amendment 10 to the Fishery Management Plan for Spiny Lobster in the Gulf of Mexico and South Atlantic | 0648-AY72
217 | Comprehensive Annual Catch Limits Amendment to the Fishery Management Plan for the Snapper-Grouper Fishery of the South Atlantic Region | 0648-AY73
218 | Amendment 20 to the Snapper-Grouper Fishery Management Plan of the South Atlantic Region | 0648-AY74
219 | Amendment To Recover the Administrative Costs of Processing Permit Applications | 0648-AY81
220 | Amendment 6 to the Monkfish Fishery Management Plan | 0648-BA50
221 | Amendment 24 to the Fishery Management Plan for the Snapper-Grouper Fishery of the South Atlantic Region | 0648-BA52
222 | Amendment 22 to the Fishery Management Plan for the Snapper-Grouper Fishery of the South Atlantic Region | 0648-BA53
223 | Amendment 21 to the Snapper-Grouper Fishery Management Plan of the South Atlantic Region | 0648-BA59
224 | Amendment 5 to the Golden Crab Fishery Management Plan of the South Atlantic | 0648-BA60
225 | Implement the 2010 Shark Conservation Act Provisions and Other Regulations in the Atlantic Smoothhound Shark Fishery | 0648-BB02
226 | To Establish a Voluntary Fishing Capacity Reduction Program in the Longline Catcher Processor Subsector of the Bering Sea and Aleutian Islands Management Area Non-Pollock Groundfish Fishery | 0648-BB06
227 | Amendment 11 to the Fishery Management Plan for the Snapper-Grouper Fishery of the South Atlantic Region | 0648-BB10
228 | Fisheries Off West Coast States; Pacific Coast Groundfish Fishery; Trawl Rationalization Program; Cost Recovery Program | 0648-BB17
229 | Regulatory Amendment to the Gulf of Mexico Reef Fish Fishery Management Plan To Increase the Total Allowable Catch for Red Grouper | 0648-BB22
230 | Amendment 93 To Implement Chinook Salmon Prohibited Species Catch Limits in the Gulf of Alaska Pollock Fishery | 0648-BB24
231 | Implementation of Comprehensive Ecosystem Based Amendment 2 | 0648-BB26
232 | Amendment 18 to the Fishery Management Plan for Coastal Migratory Pelagic Resources in the Gulf of Mexico and Atlantic Region | 0648-BB33
233 | Amendment 11 to the Fishery Management Plan for Spiny Lobster in the Gulf of Mexico and South Atlantic | 0648-BB44
234 | Framework 23 to the Atlantic Sea Scallop Fishery Management Plan | 0648-BB51
235 | Potential Revisions to the Turtle Excluder Device Requirements | 0648-AV04
236 | Marine Mammal Protection Act Permit Regulation Revisions | 0648-AV82
237 | Reduce Sea Turtle Bycatch in Atlantic Trawl Fisheries | 0648-AY61
238 | Amendment to Regulations Under the Bottlenose Dolphin Take Reduction Plan | 0648-BA34
239 | North American Right Whales; Continuation of Vessel Speed Restrictions To Reduce Right Whale Deaths From Ship Strikes | 0648-BB20
240 | Endangered and Threatened Species; Designation of Critical Habitat for Lower Columbia River Coho Salmon and Puget Sound Steelhead | 0648-BB30
241 | Amendment and Updates to the Bottlenose Dolphin Take Reduction Plan | 0648-BB37
References in boldface appear in The Regulatory Plan in part II of this issue of the Federal Register.

National Oceanic and Atmospheric Administration—Final Rule Stage
Sequence No. | Title | Regulation Identifier No.
242 | Amending Regulations for the Pacific Halibut, Sablefish, and Pollock Fisheries Conducted Under the Western Alaska Community Development Quota (CDQ) Program | 0648-AV33
243 | Magnuson-Stevens Fishery Conservation and Management Reauthorization Act (MSRA) Environmental Review Procedure | 0648-AV53
244 | Allowable Modifications to the Turtle Excluder Device Requirements | 0648-AW93
245 | Amendment 11 to the Atlantic Mackerel, Squid, Butterfish Fishery Management Plan | 0648-AX05
246 | Amendment 30 to the Fishery Management Plan for Bering Sea and Aleutian Islands King and Tanner Crabs Arbitration Regulations | 0648-AX47
247 | Revoke Inactive Quota Share and Annual Individual Fishing Quota From a Holder of Quota Share Under the Pacific Halibut and Sablefish Fixed Gear Individual Fishing Quota Program | 0648-AX91
248 | Addendum IV to the Weakfish Interstate Management Plan—Bycatch Trip Limit | 0648-AY41
249 | Fisheries of the Exclusive Economic Zone Off Alaska; Pacific Cod Allocations in the Gulf of Alaska; Amendment 83 | 0648-AY53
250 | Amendment To Correct and Clarify Amendment 16 and Subsequent Frameworks of the Northeast Multispecies Fisheries Management Plan | 0648-AY95
251 | Fishing Capacity Reduction Program for the Southeast Alaska Purse Seine Salmon Fishery | 0648-BA13
252 | Amendment 3 to the Atlantic Deep-Sea Red Crab Fishery Management Plan | 0648-BA22
253 | Framework Adjustment 45 to the Northeast Multispecies Fishery Management Plan | 0648-BA27
254 | Modification of Regulations Governing the Retention of Incidentally Caught Highly Migratory Species in Atlantic Trawl Fisheries | 0648-BA45
255 | Framework Adjustment 7 to the Monkfish Fishery Management Plan | 0648-BA46
256 | Atlantic Highly Migratory Species; Vessel Monitoring Systems | 0648-BA64
257 | Atlantic Highly Migratory Species; Implementing International Convention for the Conservation of Atlantic Tunas Recommendations on Sharks | 0648-BA69
258 | Amendment 15 to the Atlantic Sea Scallop Fishery Management Plan | 0648-BA71
259 | Framework Adjustment 22 to the Scallop Fishery Management Plan | 0648-BA72
260 | Atlantic Highly Migratory Species Electronic Dealer Reporting Requirements | 0648-BA75
261 | Bering Sea Chinook Salmon Economic Data Reporting Program | 0648-BA80
262 | Central Gulf of Alaska Rockfish Program Fishery Management Plan GOA 88 | 0648-BA97
263 | Repeal of the Fishery Management Plan for the Stone Crab Fishery of the Gulf of Mexico | 0648-BB07
264 | Implement Framework Adjustment 46 to the Northeast Multispecies Fishery Management Plan | 0648-BB08
265 | Supplement Amendment 26 and Amendment 29 to the Reef Fish Fishery Management Plan (FMP) of the Gulf of Mexico | 0648-BB15
266 | Emergency Rule to Increase the 2011 Catch Limits for the Northeast Skate Complex | 0648-BB32
267 | Rule To Delay the Effective Date of Atlantic Smoothhound Management Measures | 0648-BB43
268 | Revision of Critical Habitat Designation for the Endangered Leatherback Sea Turtle | 0648-AX06
269 | Designating Critical Habitat for the Endangered Black Abalone | 0648-AY62
270 | False Killer Whale Take Reduction Plan (Section 610 Review) | 0648-BA30
271 | Endangered and Threatened Species, Designation of Critical Habitat for Southern Distinct Population Segment of Eulachon | 0648-BA38
272 | Revision of Hawaiian Monk Seal Critical Habitat | 0648-BA81

National Oceanic and Atmospheric Administration—Completed Actions
Sequence No. | Title | Regulation Identifier No.
273 | Amendment 4 to the Atlantic Herring Fishery Management Plan | 0648-AW75
274 | Correction and Clarification to Amendment 13 and Subsequent Frameworks of the Northeast Multispecies Fishery Management Plan | 0648-AW95
275 | Implementation of Compatible Regulations With U.S. Virgin Islands Territorial Waters | 0648-AY03
276 | Fisheries Off West Coast States; Pacific Coast Groundfish Fishery; 2011 to 2012 Biennial Specifications and Management Measures; FMP Amendment 16-5 and FMP Amendment 23 | 0648-BA01
277 | Emergency Rule To Reopen the Recreational Red Snapper Season in the Gulf of Mexico | 0648-BA06
278 | 2011 Atlantic Bluefish Specifications | 0648-BA26
279 | Implementation of a Recreational Seasonal Closure for Greater Amberjack; Regulatory Framework Action to the Fishery Management Plan for Reef Fish Resources of the Gulf of Mexico (FMP) | 0648-BA48
280 | Amendment 10 to the Fishery Management Plan for the Snapper-Grouper Fishery of the South Atlantic Region | 0648-BA51
281 | Amendment to the Fishery Management Plan for the Reef Fish Resources of the Gulf of Mexico To Set Total Allowable Catch for Red Snapper | 0648-BA54
282 | Atlantic Highly Migratory Species; Atlantic Bluefin Tuna Quotas and Atlantic Tuna Fisheries Management Measures | 0648-BA65
283 | Catch Reporting Requirements in the Atlantic Herring Fishery | 0648-BA79
284 | Framework Adjustment 1 to the Northeast Skate Complex FMP | 0648-BA91
285 | 2011 Summer Flounder, Scup, and Black Sea Bass Recreational Management Measures and Scup Specification Increase (Increased 2011 Total Allowable Landings) | 0648-BA92
286 | Fisheries Off West Coast States; Pacific Coast Groundfish Fishery; 2011 Tribal Fishery for Pacific Whiting | 0648-BA95
287 | Permits for Capture, Transport, Import, and Export of Protected Species for Public Display, and for Maintaining a Captive Marine Mammal Inventory | 0648-AH26
288 | Protective Regulations for Killer Whales in the Northwest Region Under the Endangered Species Act and Marine Mammal Protection Act | 0648-AV15
289 | Critical Habitat Designation for Cook Inlet Beluga Whale Under the Endangered Species Act | 0648-AX50
290 | Taking of Marine Mammals Incidental to Specified Activities; Taking Marine Mammals Incidental to Training Operations Conducted Within the Gulf of Mexico Range Complex | 0648-AX86

Patent and Trademark Office—Final Rule Stage
Sequence No. | Title | Regulation Identifier No.
291 | Adjustment of USPTO Fees for Fiscal Year 2012 | 0651-AC44

Patent and Trademark Office—Completed Actions
Sequence No. | Title | Regulation Identifier No.
292 | Revision of USPTO Fees for Fiscal Year 2011 | 0651-AC43

DEPARTMENT OF COMMERCE (DOC)

International Trade Administration (ITA)

Long-Term Actions

204. Commercial Availability of Fabric and Yarn

Legal Authority: Pub. L. 106-200, sec 112(b)(5)(B); Pub. L. 106-200, sec 211; EO 13191; Pub. L. 107-210, sec 3103

Abstract: This rule implements certain provisions of the Trade and Development Act of 2000 (the Act). Title I of the Act (the African Growth and Opportunity Act or AGOA), title II of the Act (the United States-Caribbean Basin Trade Partnership Act or CBTPA), and title XXXI of the Trade Act of 2002 (the Andean Trade Promotion and Drug Eradication Act or ATPDEA) provide for quota- and duty-free treatment for qualifying apparel products from designated beneficiary countries. AGOA and CBTPA authorize quota- and duty-free treatment for apparel articles that are both cut (or knit-to-shape) and sewn or otherwise assembled in one or more designated beneficiary countries from yarn or fabric that is not formed in the United States or a beneficiary country, provided it has been determined that such yarn or fabric cannot be supplied by the domestic industry in commercial quantities in a timely manner. The President has delegated to the Committee for the Implementation of Textile Agreements (the Committee), which is chaired by the Department of Commerce, the authority to determine whether yarn or fabric cannot be supplied by the domestic industry in commercial quantities in a timely manner under the AGOA, the ATPDEA, and the CBTPA, and has authorized the Committee to extend quota- and duty-free treatment to apparel of such yarn or fabric. The rule provides the procedure for interested parties to submit a request alleging that a yarn or fabric cannot be supplied by the domestic industry in commercial quantities in a timely manner, the procedure for public comments, and relevant factors that will be considered in the Committee's determination. The rule also outlines the factors to be considered by the Committee in extending quota- and duty-free treatment.

Timetable:

Action | Date | FR Cite
NPRM | To Be Determined.

Regulatory Flexibility Analysis Required: Yes.

Agency Contact: Janet Heinzen, Phone: 202 482-4006, Email: janet_heinzen@ita.doc.gov.

RIN: 0625-AA59

DEPARTMENT OF COMMERCE (DOC)

National Oceanic and Atmospheric Administration (NOAA)

Proposed Rule Stage

National Marine Fisheries Service

205. Fishery Management Plan for Regulating Offshore Marine Aquaculture in the Gulf of Mexico

Regulatory Plan: This entry is Seq. No. 22 in part II of this issue of the Federal Register.

RIN: 0648-AS65

206. American Lobster Fishery; Fishing Effort Control Measures To Complement Interstate Lobster Management Recommendations by the Atlantic States Marine Fisheries Commission

Legal Authority: 16 U.S.C. 5101 et seq.

Abstract: The National Marine Fisheries Service announces that it is considering, and seeking public comment on, revisions to Federal American lobster regulations for the Exclusive Economic Zone (EEZ) associated with effort control measures as recommended for Federal implementation by the Atlantic States Marine Fisheries Commission (ASMFC) and as outlined in the Interstate Fishery Management Plan (ISFMP) for American Lobster. This action will evaluate effort control measures in certain Lobster Conservation Management Areas, including: Limits on future access based on historic participation criteria; procedures to allow trap transfers among qualifiers and impose a trap reduction or conservation tax on any trap transfers; and a trap reduction schedule to meet the goals of the ISFMP.

Timetable:

Action | Date | FR Cite
ANPRM | 05/10/05 | 70 FR 24495
ANPRM Comment Period End | 06/09/05 |
Notice of Public Meeting | 05/03/10 | 75 FR 23245
NPRM | 12/00/11 |

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-AT31

207. Collection and Use of Tax Identification Numbers From Holders of and Applicants for National Marine Fisheries Service Permits

Legal Authority: 31 U.S.C. 7701; 16 U.S.C. 1801 et seq.; 16 U.S.C. 1361 et seq.; 16 U.S.C. 1531 et seq.

Abstract: Pursuant to the Debt Collection Improvement Act of 1996 (Debt Collection Act), the National Marine Fisheries Service (NMFS) proposes to require that each existing holder of and future applicant for a permit, license, endorsement, authorization, transfer, or like instrument issued by the Agency provide a Taxpayer Identification Number (TIN) (business, employer identification number, or individual's Social Security number) and Date of Incorporation or Date of Birth, as appropriate. Under the Debt Collection Act, NMFS is required to collect the TIN to report on and collect any delinquent non-tax debt owed to the Federal Government. NMFS plans to use Date of Incorporation or Date of Birth information for administrative aspects of permitting procedures, with appropriate confidentiality safeguards pursuant to the Privacy Act. The rule will specify: (a) The particular uses that may be made of the reported TIN; (b) the effects, if any, of not providing the required information; (c) how the information will be used to ascertain if the permit holder or applicant owes delinquent non-tax debt to the Government pursuant to the Debt Collection Act; (d) the effects on the permit holder or applicant when such delinquent debts are owed; and (e) the Agency's intended communications with the permit holder or applicant regarding the relationship of such delinquent debts to its permitting process and the need to resolve such debts as a basis for completing permit issuance or renewal. The rule will amend existing Agency permit regulations and contain all appropriate modified and new collections-of-information pursuant to the Paperwork Reduction Act.

Timetable:

Action | Date | FR Cite
NPRM | 12/00/11 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-AV76

208. Marine Mammal Protection Act Stranding Regulation Revisions

Legal Authority: 16 U.S.C. 1379; 16 U.S.C. 1382; 16 U.S.C. 1421

Abstract: The National Marine Fisheries Service (NMFS) is considering changes to its implementing regulations (50 CFR 216) governing the taking of stranded marine mammals under section 109(h), section 112(c), and title IV of the Marine Mammal Protection Act and is soliciting public comment to better inform the process. NMFS intends to clarify the requirements and procedures for responding to stranded marine mammals and for determining the disposition of rehabilitated marine mammals, which includes the procedures for the placement of nonreleasable animals and for authorizing the retention of releasable rehabilitated marine mammals for scientific research, enhancement, or public display. This action will be analyzed under the National Environmental Policy Act with an Environmental Assessment.

Timetable:

Action | Date | FR Cite
ANPRM | 01/31/08 | 73 FR 5786
ANPRM Comment Period End | 03/31/08 |
NPRM | 12/00/11 |

Regulatory Flexibility Analysis Required: Yes.

Agency Contact: David Cottingham, Department of Commerce, National Oceanic and Atmospheric Administration, 1315 East-West Highway, Silver Spring, MD 20910, Phone: 301 713-2322, Fax: 301 713-2521, Email: david.cottingham@noaa.gov.

RIN: 0648-AW22

209. Fisheries Off West Coast States and in the Western Pacific; Klamath River Fall Chinook Salmon Rebuilding Plan

Legal Authority: 16 U.S.C. 1854

Abstract: This action would adopt a rebuilding plan for the Klamath River fall Chinook salmon (KRFC) stock, which failed to meet conservation objectives specified in the Fishery Management Plan for the 3-year period 2004 to 2006.

Timetable:

Action | Date | FR Cite
NPRM | 12/00/11 |
NPRM Comment Period End | 02/00/12 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-AY06

210. Amendment 3 to the Spiny Dogfish Fishery Management Plan

Legal Authority: 16 U.S.C. 1801

Abstract: The New England and Mid-Atlantic Fishery Management Councils (Councils) announce their intention to prepare, in cooperation with NMFS, an Environmental Impact Statement (EIS) in accordance with the National Environmental Policy Act to assess potential effects on the human environment of alternative measures to address several issues regarding the Spiny Dogfish Fishery Management Plan (FMP). Issues that may be addressed include: Initiating a Research Set-Aside provision; specifying the spiny dogfish quota and/or possession limits by sex; adding a recreational fishery to the FMP; identifying commercial quota allocation alternatives; and establishing a limited access fishery.

Timetable:

Action | Date | FR Cite
Notice of Intent | 08/05/09 | 74 FR 39063
Notice of Intent To Prepare an Environmental Impact Statement | 08/05/09 | 74 FR 30963
Comment Period End | 09/04/09 |
Notice of Intent | 05/13/10 | 75 FR 26920
NPRM | 11/00/12 |

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-AY12

211. Generic Amendment for Annual Catch Limits

Legal Authority: 16 U.S.C. 1801

Abstract: The generic amendment is intended to modify five of the Gulf of Mexico Fishery Management Council's Fishery Management Plans (FMPs). These include FMPs for: Reef Fish Resources, Shrimp, Stone Crab, Coral and Coral Reef Resources, and Red Drum. NMFS and the Council will develop these Annual Catch Limits (ACLs) in cooperation with the Scientific and Statistical Committee and the Southeast Fisheries Science Center. NMFS, in collaboration with the Council, will develop a Draft Environmental Impact Statement to evaluate alternatives and actions for the ACLs. Some examples of these actions include: Establishing sector-specific ACLs, selecting levels of risk associated with species yields, considering removal or withdrawal of species from FMPs, and delegating species or species assemblages to state regulators.

Timetable:

Action | Date | FR Cite
Notice of Intent | 08/04/09 | 74 FR 47206
NPRM | 12/00/11 |
Notice of Availability | 12/00/11 |
Final Action | 02/00/12 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-AY22

212. Amendment 14 to the Atlantic Mackerel, Squid, and Butterfish Fishery Management Plan

Legal Authority: 16 U.S.C. 1801 et seq.

Abstract: The purpose of Amendment 14 is to consider catch shares in the Loligo and Illex fisheries and monitoring/mitigation for river herring bycatch in mackerel, squid, and butterfish (MSB) fisheries.

Timetable:

Action | Date | FR Cite
Notice of Intent | 06/09/10 | 75 FR 32745
NPRM | 12/00/11 |
Final Action | 01/00/12 |

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-AY26

213. Fisheries in the Western Pacific; Pelagic Fisheries; Purse Seine Fishing With Fish Aggregation Devices

Legal Authority: 16 U.S.C. 1801 et seq.

Abstract: The Western Pacific Council is amending the Pelagics Fishery Ecosystem Plan (FEP) to (1) define fish aggregating devices (FADs) as purposefully deployed or instrumented floating objects; (2) require FADs to be registered; and (3) prohibit purse seine fishing using FADs in the U.S. EEZ of the western Pacific. The objective of this action is to appropriately balance the needs and concerns of the western Pacific pelagic fishing fleets and associated fishing communities with the conservation of tuna stocks in the western Pacific.

Timetable:

Action | Date | FR Cite
NPRM | 12/00/11 |

Regulatory Flexibility Analysis Required: Yes.

Agency Contact: Alvin Katekaru, Assistant Regional Administrator, Sustainable Fisheries, Department of Commerce, National Oceanic and Atmospheric Administration, 1601 Kapiolani Boulevard, Honolulu, HI 96814, Phone: 808 944-2207, Fax: 808 973-2941, Email: alvin.katekaru@noaa.gov.

RIN: 0648-AY36

214. Amendment 5 to the Atlantic Herring Fishery Management Plan

Legal Authority: 16 U.S.C. 1801

Abstract: Amendment 5 to the Atlantic Herring Fishery Management Plan will consider: Catch monitoring programs; interactions with river herring; access by herring midwater trawl vessels in groundfish closed areas; and interactions with the mackerel fishery.

Timetable:

Action | Date | FR Cite
Supplemental Notice of Intent | 12/28/09 | 74 FR 68576
NPRM | 05/00/12 |

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-AY47

215. Amendment 2 to the FMP for the Queen Conch Fishery of Puerto Rico and the U.S. Virgin Islands and Amendment 5 to the Reef Fish FMP of Puerto Rico and the U.S. Virgin Islands

Legal Authority: 16 U.S.C. 1801

Abstract: The Magnuson-Stevens Fishery Conservation and Management Act (MSRA: Pub. L. 94-265), as amended through January 12, 2007, requires the establishment of annual catch limits (ACLs) and accountability measures (AMs) during 2010 for all species that are considered to be overfished or undergoing overfishing. The present amendment is being promulgated to meet those MSRA mandates as well as to establish framework procedures with which to effect future changes to the management plan and to restructure the fisheries management units for grouper and snapper. Various alternatives are included in the draft amendment, including maintenance of the status quo for each action as well as various alternatives regarding the year-sequences used to establish ACLs and the strategies to be employed to account for overages and to respond to needed changes in management methods.

Timetable:

Action | Date | FR Cite
NPRM | 12/00/11 |
Notice of Availability | 12/00/11 |
Final Action | 01/00/12 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-AY55

216. Amendment 10 to the Fishery Management Plan for Spiny Lobster in the Gulf of Mexico and South Atlantic

Legal Authority: 16 U.S.C. 1801

Abstract: The 2006 Reauthorization of the Magnuson-Stevens Fishery Conservation and Management Act (MSFCMA) included a number of changes to improve conservation of managed fishery resources. Included in these changes are requirements that the Regional Councils must establish both a mechanism for specifying annual catch limits (ACLs) at a level such that overfishing does not occur in the fishery, and accountability measures (AMs) to correct if overages occur. Accountability measures are management controls to prevent the ACLs from being exceeded and to correct by either in-season or postseason measures if they do occur. The Spiny Lobster fishery is jointly managed by the Gulf and South Atlantic Councils. Amendment 10 to the FMP will set ACLs and AMs, review current regulations, and implement reasonable and prudent measures from the Biological Opinion.

Timetable:

Action | Date | FR Cite
Notice of Intent | 03/12/10 | 75 FR 11843
Notice of Intent Comment Period End | 04/12/10 |
NPRM | 12/00/11 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-AY72

217. Comprehensive Annual Catch Limits Amendment to the Fishery Management Plan for the Snapper-Grouper Fishery of the South Atlantic Region

Legal Authority: 16 U.S.C. 1801 et seq.

Abstract: This amendment establishes Annual Catch Limits (ACLs) and Accountability Measures (AMs) for species not undergoing overfishing, including management measures to reduce the probability that catches will exceed the stocks' ACLs pursuant to reauthorized Magnuson-Stevens Fishery Conservation and Management Act (Magnuson-Stevens Act) requirements.

Actions include removal of species from the South Atlantic Snapper-Grouper Fishery Management Unit; designating some snapper and grouper species as ecosystem component species; considering multispecies groupings for specifying ACLs, ACTs, and AMs; specifying allocations among the commercial, recreational, and for-hire sectors for species not undergoing overfishing; and modifying management measures to limit total mortality to the ACL.

Timetable:

Action | Date | FR Cite
NPRM | 12/00/11 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-AY73

218. Amendment 20 to the Snapper-Grouper Fishery Management Plan of the South Atlantic Region

Legal Authority: 16 U.S.C. 1801 et seq.

Abstract: Amendment 20 to the Fishery Management Plan for the Snapper-Grouper Fishery of the South Atlantic Region consists of regulatory actions that focus on modifications to the wreckfish individual transferable quota (ITQ) program, bringing the program into compliance with the Reauthorized Magnuson-Stevens Fishery Conservation and Management Act (Magnuson-Stevens Act), and make other administrative, monitoring, and enforcement changes.

Timetable:

Action | Date | FR Cite
NPRM | 12/00/11 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-AY74

219. Amendment To Recover the Administrative Costs of Processing Permit Applications

Legal Authority: 16 U.S.C. 1801 et seq.; 16 U.S.C. 1853; 16 U.S.C. 1854; 16 U.S.C. 3631 et seq.; 16 U.S.C. 773 et seq.; Pub. L. 108-447

Abstract: This action amends the fishery management plans of the North Pacific Fishery Management Council and revises Federal regulations at 50 CFR 679 to recover the administrative costs of processing applications for permits required under those plans.

Timetable:

Action | Date | FR Cite
NPRM | 12/00/11 |
Final Rule | 01/00/12 |

Regulatory Flexibility Analysis Required: Yes.

Agency Contact: Robert D. Mecum, Deputy Acting Administrator, Department of Commerce, National Oceanic and Atmospheric Administration, Room 420, 709 West Ninth Street, Juneau, AK 99802, Phone: 907 586-7221, Fax: 907 586-7249, Email: robert.mecum@noaa.gov.

RIN: 0648-AY81

220. Amendment 6 to the Monkfish Fishery Management Plan

Legal Authority: 16 U.S.C. 1801 et seq.

Abstract: The purpose of Amendment 6 to the Monkfish FMP is to consider developing a catch-share management program for this fishery. This would very likely also involve the development of a referendum for such a program, as required under the Magnuson-Stevens Fishery Conservation and Management Act.

Timetable:

Action | Date | FR Cite
Notice of Intent To Prepare an EIS | 11/30/10 | 75 FR 74005
NPRM | 02/00/12 |

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-BA50

221. Amendment 24 to the Fishery Management Plan for the Snapper-Grouper Fishery of the South Atlantic Region

Legal Authority: 16 U.S.C. 1801 et seq.

Abstract: The purpose of the amendment is to implement a rebuilding plan for red grouper in the South Atlantic that would specify annual catch targets and annual catch limits by sector. NMFS notified the Council of the stock status on June 9, 2010; the Magnuson-Stevens Act specifies that measures must be implemented within 2 years of notification.

Timetable:

Action | Date | FR Cite
Notice of Intent | 01/03/11 | 76 FR 99
Notice of Intent Comment Period End | 02/14/11 |
NPRM | 02/00/12 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BA52

222. Amendment 22 to the Fishery Management Plan for the Snapper-Grouper Fishery of the South Atlantic Region

Legal Authority: 16 U.S.C. 1801 et seq.

Abstract: The purpose of the amendment is to establish a long-term red snapper fishery management program in the South Atlantic to optimize yield and rebuild the stock, while minimizing socioeconomic impacts. More specifically, these alternatives will consider the elimination of harvest restrictions on red snapper as the stock increases in biomass.

Timetable:

Action | Date | FR Cite
Notice of Intent | 01/03/11 | 76 FR 101
Notice of Intent Comment Period End | 02/14/11 |
NPRM | 12/00/11 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BA53

223. Amendment 21 to the Snapper-Grouper Fishery Management Plan of the South Atlantic Region

Legal Authority: 16 U.S.C. 1801 et seq.

Abstract: Amendment 21 examines measures to limit participation in the snapper-grouper fishery, including endorsements, trip limits, and catch-share programs.

Timetable:

Action | Date | FR Cite
NPRM | 06/00/12 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BA59

224. Amendment 5 to the Golden Crab Fishery Management Plan of the South Atlantic

Legal Authority: 16 U.S.C. 1801 et seq.

Abstract: Golden Crab Amendment 5 examines alternatives for a catch-share program to limit participation in the golden crab fishery.

Timetable:

Action | Date | FR Cite
NPRM | 03/00/12 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov

RIN: 0648-BA60

225. • Implement the 2010 Shark Conservation Act Provisions and Other Regulations in the Atlantic Smoothhound Shark Fishery

Legal Authority: 16 U.S.C. 1801

Abstract: This rule considers changes in the Atlantic shark fishery to comply with the 2010 Shark Conservation Act. Additionally, the rule reexamines the overall smoothhound shark quota based upon updated catch data and would implement measures, as needed, to comply with the Endangered Species Act.

Timetable:

Action | Date | FR Cite
NPRM | 12/00/11 |

Regulatory Flexibility Analysis Required: Yes.

Agency Contact: Margo Schulze-Haugen, Supervisory Fish Management Officer, Department of Commerce, National Oceanic and Atmospheric Administration, 1315 East-West Highway, Silver Spring, MD 20910, Phone: 301 713-0234, Fax: 301 713-1917, Email: margo.schulze-haugen@noaa.gov.

RIN: 0648-BB02

226. • To Establish a Voluntary Fishing Capacity Reduction Program in the Longline Catcher Processor Subsector of the Bering Sea and Aleutian Islands Management Area Non-Pollock Groundfish Fishery

Legal Authority: 16 U.S.C. 1279; 46 U.S.C. 1279; Pub. L. 108-199; Pub. L. 108-447

Abstract: This action establishes a second fishing capacity reduction program in the longline catcher processor subsector of the Bering Sea/Aleutian Islands non-pollock groundfish fishery. The maximum reduction cost is $2,700,000, funded by a loan to be repaid by landing fees for those participants remaining in the fishery. The program makes payments for relinquishing all Federal fishing licenses and permits. Participating fishing vessels can never again fish anywhere in the world and must remain U.S. flagged. Reducing capacity will increase post-reduction harvesters' productivity, financially stabilize the fishery, and help conserve and manage non-pollock groundfish.

Timetable:

Action | Date | FR Cite
NPRM | 12/00/11 |

Regulatory Flexibility Analysis Required: Yes.

Agency Contact: Gary C. Reisner, Director, Office of Management and Budget, Department of Commerce, National Oceanic and Atmospheric Administration, 1315 East-West Highway, Silver Spring, MD 20910, Phone: 301 713-2259, Fax: 301 713-1464, Email: gary.reisner@noaa.gov.

RIN: 0648-BB06

227. • Amendment 11 to the Fishery Management Plan for the Snapper-Grouper Fishery of the South Atlantic Region

Legal Authority: 16 U.S.C. 1801

Abstract: The purpose of the amendment is to modify regulations pertaining to the deepwater species in order to reduce the socio-economic effects expected from the regulations in Amendment 17B to the Snapper-Grouper FMP while maintaining or increasing the biological protection to speckled hind and warsaw grouper in the South Atlantic.

Timetable:

Action | Date | FR Cite
NPRM | 01/00/12 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BB10

228. • Fisheries Off West Coast States; Pacific Coast Groundfish Fishery; Trawl Rationalization Program; Cost Recovery Program

Legal Authority: 16 U.S.C. 1853a

Abstract: This rulemaking would implement a Cost Recovery Program for the Pacific Coast Groundfish Trawl Rationalization Program (TRAT). In accordance with the Magnuson-Stevens Fishery Conservation and Management Act (MSA) 16 U.S.C. 1853a MSA 303A(d)(2), the Secretary of Commerce is authorized to collect a fee to recover the actual costs directly related to the management, data collection, and enforcement of any limited access privilege program (LAPP), up to 3 percent of the ex-vessel value of the fish harvested under the LAPP. The Pacific Fishery Management Council (Council) recommended and NMFS approved Amendment 20 to the Pacific Coast Groundfish Fishery Management Plan (FMP) in 2010, which acknowledged the MSA requirement for a Cost Recovery Program (Appendix E to the FMP). NMFS implemented most of the Trawl Rationalization Program in January 2011 with notice that the design and implementation of a Cost Recovery Program would follow.

Timetable:

Action | Date | FR Cite
NPRM | 12/00/11 |
Final Action | 01/00/12 |

Regulatory Flexibility Analysis Required: Yes.

Agency Contact: Frank Lockhart, Program Analyst, Department of Commerce, National Oceanic and Atmospheric Administration, 7600 Sand Point Way NE., Seattle, WA 98115, Phone: 206 526-6142, Fax: 206 526-6736, Email: frank.lockhart@noaa.gov.

RIN: 0648-BB17

229. • Regulatory Amendment to the Gulf of Mexico Reef Fish Fishery Management Plan To Increase the Total Allowable Catch for Red Grouper

Legal Authority: 16 U.S.C. 1801 et seq.

Abstract: The 2009 update stock assessment of the red grouper stock indicated that, although the stock continues to be neither overfished nor undergoing overfishing, the stock has declined since 2005. This decline was attributed to a 2005 episodic mortality event resulting in a little over 20 percent of the red grouper stock being killed, in addition to normal natural and fishing mortalities. Therefore, there is a need to improve the stock condition to a level where, at equilibrium, the stock can be harvested at optimum yield. A 2010 framework action set the 2011 total allowable catch (TAC) consistent with the findings of the assessment. A rerun of the assessment was subsequently conducted that included landings data through 2010. Because of lower than predicted landings, the rerun of the assessment supported increasing the 2011 TAC from 5.68 to 6.88 million pounds. The first action of this framework action is to consider increasing the 2011 TAC and setting the TAC for at least 2012 consistent with the results of the update assessment. This increase would provide more fish for harvest by the commercial sector through a quota increase. A second action is to consider increasing the red grouper bag limit for the recreational sector so it can harvest its allocation of the TAC. Alternatives considered in this framework action are consistent with the goals and objectives of the Council's reef fish management strategy and achieve the mandates of the Magnuson-Stevens Fishery Conservation and Management Act.

Timetable:

Action | Date | FR Cite
NPRM | 12/00/11 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BB22

230. • Amendment 93 To Implement Chinook Salmon Prohibited Species Catch Limits in the Gulf of Alaska Pollock Fishery

Legal Authority: 16 U.S.C. 3631 et seq.; 16 U.S.C. 773 et seq.; 16 U.S.C. 1801 et seq.; Pub. L. 108-199; 118 Stat 110

Abstract: This action would limit Chinook salmon prohibited species catch (PSC) and increase monitoring in the Gulf of Alaska (GOA) pollock fishery. A 25,000 lb Chinook salmon PSC annual limit would be apportioned between the GOA Central and Western Regulatory Areas, with a 18,316 lb Chinook salmon PSC limit in the Central Regulatory Area and a 6,684 lb Chinook salmon PSC limit in the Western Regulatory Area. If the PSC limit is reached in a regulatory area, that pollock fishery would be closed. To provide better information on the quantity and source of salmon incidentally caught in the pollock fishery, this action also would increase observer coverage on vessels less than 60 feet in length overall and require full retention of salmon.

Timetable:

Action | Date | FR Cite
NPRM | 12/00/11
Final Rule | 08/00/12

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BB24

231. • Implementation of Comprehensive Ecosystem Based Amendment 2

Legal Authority: 16 U.S.C. 1801 et seq.

Abstract: This CE-BA 2 proposes to specify the annual catch limit (ACL) for octocorals in the South Atlantic region. The South Atlantic Council is considering modifying the fishery management unit (FMU) for octocorals under the Fishery Management Plan for Coral, Coral Reefs, Live/Hardbottom Habitats of the South Atlantic Region (Coral FMP) to specify that octocorals are included in the exclusive economic zone off of North Carolina, South Carolina, and Georgia. As a result of potentially reducing the management unit for octocorals, the South Atlantic Council is also considering an action to set the ACL at zero.

CE-BA 2 would amend the Snapper Grouper FMP and FMP for the Coastal Migratory Pelagic Resources in the Atlantic and Gulf of Mexico to require that harvest (with the use of all non-prohibited fishing gear) and possession of snapper grouper and coastal migratory pelagic managed species in South Carolina SMZs be limited to the recreational bag limit.

An action to modify sea turtle and smalltooth sawfish release gear requirements for the snapper grouper fishery is also included in CE-BA 2.

This amendment would amend Council FMPs as needed to designate new or modify existing EFH and EFH-HAPCs.

Timetable:

Action | Date | FR Cite
NPRM | 12/00/11

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BB26

232. • Amendment 18 to the Fishery Management Plan for Coastal Migratory Pelagic Resources in the Gulf of Mexico and Atlantic Region

Legal Authority: 16 U.S.C. 1801 et seq.

Abstract: In 2006 the Magnuson-Stevens Fishery Conservation and Management Act (MSFCMA) was re-authorized and included a number of changes to improve conservation of managed fishery resources. Included in these changes are requirements that the Regional Councils must establish both a mechanism for specifying Annual Catch Limits (ACLs) at a level such that overfishing does not occur in the fishery, and Accountability Measures (AMs) to correct if overages occur. Accountability measures are management controls to prevent the ACLs from being exceeded and to correct by either in-season or post-season measures if they do occur. The coastal migratory pelagics fishery is jointly managed by the Gulf and South Atlantic Councils. The Gulf of Mexico and South Atlantic Fishery Management Councils (Councils) are currently considering regulatory action needed to set annual catch limits and accountability measures as required by the Magnuson-Stevens Fishery Conservation and Management Act. In addition, the Councils are addressing actions and alternatives to remove several coastal migratory pelagic species from the FMP, update the framework procedure, establish migratory groups for cobia, and redefine biological reference points.

Timetable:

Action | Date | FR Cite
NPRM | 12/00/11

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BB33

233. • Amendment 11 to the Fishery Management Plan for Spiny Lobster in The Gulf of Mexico and South Atlantic

Legal Authority: 16 U.S.C. 1801 et seq.

Abstract: The Spiny Lobster fishery is jointly managed by the Gulf and South Atlantic Councils. Amendment 11 to the Fishery Management Plan (FMP) will implement reasonable and prudent measures from the 2009 Biological Opinion. The actions include establishment of trap line marking requirements and closed areas to protect Acropora coral species. These actions were originally included in Amendment 10 to the FMP; however, the Councils chose to take no action at that time to allow for additional stakeholder input.

Timetable:

Action | Date | FR Cite
NPRM | 12/00/11 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BB44

234. • Framework 23 to the Atlantic Sea Scallop Fishery Management Plan

Legal Authority: 16 U.S.C. 1801 et seq.

Abstract: The purpose of Framework 23 is to address four specific issues identified by the public and the Council to improve the overall effectiveness of the Scallop Fishery Management Plan. The need is to develop measures to minimize impacts on sea turtles through the requirement of a turtle deflector dredge; improve the effectiveness of the accountability measures adopted under Scallop Amendment 15 for the yellowtail flounder sub annual catch limit; consider specific changes to the general category Northern Gulf of Maine management program to address potential inconsistencies, and to consider modifications to the vessel monitoring system to improve fleet operations.

Timetable:

Action | Date | FR Cite
NPRM | 01/00/12

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-BB51

235. Potential Revisions to the Turtle Excluder Device Requirements

Legal Authority: 16 U.S.C. 1533

Abstract: With this action, the National Marine Fisheries Service (NMFS) announces that it is considering technical changes to the requirements for turtle excluder devices (TEDs), and to solicit public comment. Specifically, NMFS would modify the size of the TED escape opening currently required in the summer flounder fishery; require the use of TEDs in the whelk, calico scallop, and Mid-Atlantic scallop trawl fisheries; require the use of TEDs in flynets; and move the current northern boundary of the Summer Flounder Fishery-Sea Turtle Protection Area off Cape Charles, Virginia, to a point farther north.

Timetable:

Action | Date | FR Cite
ANPRM | 02/15/07 | 72 FR 7382
ANPRM Comment Period End | 03/19/07
ANPRM Comment Period Extended | 03/19/07 | 72 FR 12749
NPRM | 12/00/11
NPRM Comment Period End | 02/00/12

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-AV04

236. Marine Mammal Protection Act Permit Regulation Revisions

Legal Authority: 16 U.S.C. 1374

Abstract: The National Marine Fisheries Service (NMFS) is considering changes to its implementing regulations (50 CFR 216) governing the issuance of permits for scientific research and enhancement activities under section 104 of the Marine Mammal Protection Act and is soliciting public comment to better inform the process. NMFS intends to streamline and clarify general permitting requirements and requirements for scientific research and enhancement permits, simplify procedures for transferring marine mammal parts, possibly apply the General Authorization (GA) to research activities involving Level A harassment of non-endangered marine mammals, and implement a “permit application cycle” for application submission and processing of all marine mammal permits. NMFS intends to write regulations for marine mammal photography permits and is considering whether this activity should be covered by the GA.

Timetable:

Action | Date | FR Cite
ANPRM | 09/13/07 | 72 FR 52339
ANPRM Comment Period Extended | 10/15/07 | 72 FR 58279
ANPRM Comment Period End | 11/13/07 | 72 FR 52339
ANPRM Extended Comment Period End | 12/13/07 | 72 FR 58279
NPRM | 12/00/11

Regulatory Flexibility Analysis Required: Yes.

Agency Contact: Dr. Michael Payne, Fishery Biologist, Department of Commerce, National Oceanic and Atmospheric Administration, P.O. Box 21668, Juneau, AK 99802, Phone: 907 586-7235, Fax: 301 713-2521, Email: michael.payne@noaa.gov.

RIN: 0648-AV82

237. Reduce Sea Turtle Bycatch in Atlantic Trawl Fisheries

Legal Authority: 16 U.S.C. 1531 et seq.

Abstract: NMFS is initiating a rulemaking action to reduce injury and mortality to endangered and threatened sea turtles resulting from incidental take, or bycatch, in trawl fisheries in the Atlantic waters. NMFS will likely address the size of the Turtle Excluder Device (TED) escape opening currently required in the summer flounder trawl fishery, the definition of a summer flounder trawler, and the use of TEDs in this fishery; the use of TEDs in the croaker and weakfish flynet, whelk, Atlantic sea scallop, and calico scallop trawl fisheries of the Atlantic Ocean; and new seasonal and temporal boundaries for TED requirements. In addition, this rule will address the definition of the Gulf Area applicable to the shrimp trawl fishery in the southeast Atlantic and Gulf of Mexico. The purpose of the rule is to aid in the protection and recovery of listed sea turtle populations by reducing mortality in trawl fisheries through the use of TEDs.

Timetable:

Action | Date | FR Cite
NPRM | 12/00/11

Regulatory Flexibility Analysis Required: Yes.

Agency Contact: Alexis Gutierrez, Foreign Affairs Specialist, Department of Commerce, National Oceanic and Atmospheric Administration, 1315 East-West Highway, Silver Spring, MD 20910, Phone: 301 713-2322, Fax: 301 713-4060, Email: alexis.gutierrez@noaa.gov.

RIN: 0648-AY61

238. Amendment to Regulations Under the Bottlenose Dolphin Take Reduction Plan

Legal Authority: 16 U.S.C. 1361 et seq.

Abstract: Serious injury and mortality of the western North Atlantic bottlenose dolphin stocks incidental to Category I and II fisheries continue at levels potentially exceeding Potential Biological Removal (PBR) levels, requiring additional management measures under the Bottlenose Dolphin Take Reduction Plan (BDTRP). Therefore, the this action amends the BDTRP to reduce serious injury and mortality of bottlenose dolphins in the Virginia pound net fishery (Category II) and mid-Atlantic gillnet fishery (Category I) in North Carolina, specifically, the spiny dogfish fishery. The need for this action is to ensure the BDTRP meets its MMPA mandated short- and long-term goals. NMFS will examine a number of management measures, including consensus recommendations from the Bottlenose Dolphin Take Reduction Team, designed to reduce the incidental mortality or serious injury of bottlenose dolphins taken in both the Virginia pound net fishery and spiny dogfish fishery in North Carolina to below PBR, as well as other updates supporting the objectives of the BDTRP.

Timetable:

Action | Date | FR Cite
NPRM | 12/00/11

Regulatory Flexibility Analysis Required: Yes.

Agency Contact: Stacey Leah Carlson, Fishery Biologist, Department of Commerce, National Oceanic and Atmospheric Administration, 263 13th Avenue South, St. Petersburg, FL 33701, Phone: 727 824-5312, Fax: 727 824-5309, Email: stacey.carlson@noaa.gov.

RIN: 0648-BA34

239. • North American Right Whales; Continuation of Vessel Speed Restrictions to Reduce Right Whale Deaths From Ship Strikes

Legal Authority: 16 U.S.C. 1361 et seq.; 16 U.S.C. 1531 et seq.

Abstract: NMFS proposes to eliminate an expiration requirement currently contained in vessel speed restrictions designed to reduce the likelihood of vessel collisions with North Atlantic right whales. The regulations require speed restrictions of no more than 10 knots applying to all vessels 65 ft (19.8 m) or greater in overall length in certain locations and at certain times of the year along the east coast of the U.S. Atlantic seaboard. The rule is currently set to expire December 9, 2013. NMFS seeks public comment on the proposed rule.

Timetable:

Action | Date | FR Cite
NPRM | 12/00/11

Regulatory Flexibility Analysis Required: Yes.

Agency Contact: James H. Lecky, Director, Office of Protected Resources, Department of Commerce, National Oceanic and Atmospheric Administration, 1315 East-West Highway, Silver Spring, MD 20910, Phone: 301 713-2332, Fax: 301 427-2520, Email: jim.lecky@noaa.gov.

RIN: 0648-BB20

240. • Endangered and Threatened Species; Designation of Critical Habitat for Lower Columbia River Coho Salmon and Puget Sound Steelhead

Legal Authority: 16 U.S.C. 1531 to 1544

Abstract: We, the National Marine Fisheries Service (NMFS), propose to designate critical habitat under the Endangered Species Act (ESA) for the lower Columbia River coho salmon and the Puget Sound steelhead distinct population segments (DPS). The proposed areas include freshwater streams and estuarine habitats in Puget Sound, the Strait of Juan de Fuca, SW Washington, and NW Oregon. This proposed rule will seek comments and any additional information on the areas proposed for designation and our evaluation of areas that may warrant exclusion from the designation.

Timetable:

Action | Date | FR Cite
NPRM | 01/00/12

Regulatory Flexibility Analysis Required: Yes.

Agency Contact: James H. Lecky, Director, Office of Protected Resources, Department of Commerce, National Oceanic and Atmospheric Administration, 1315 East-West Highway, Silver Spring, MD 20910, Phone: 301 713-2332, Fax: 301 427-2520, Email: jim.lecky@noaa.gov.

RIN: 0648-BB30

241. • Amendment and Updates to the Bottlenose Dolphin Take Reduction Plan

Legal Authority: 16 U.S.C. 1531 et seq.; 16 U.S.C. 1361 et seq.

Abstract: Serious injury and mortality of the Western North Atlantic bottlenose dolphin stocks incidental to Category I and II fisheries continue at levels potentially exceeding Potential Biological Removal (PBR) levels, requiring additional management measures under the Bottlenose Dolphin Take Reduction Plan (BDTRP). Therefore, the purpose of the proposed actions is to amend the BDTRP to reduce serious injury and mortality of bottlenose dolphins in the Virginia pound net fishery (Category II). The need for the proposed action is to ensure the BDTRP meets its MMPA mandated short- and long-term goals. NMFS will examine a number of management measures, including consensus recommendations from the Bottlenose Dolphin Take Reduction Team, designed to reduce the incidental mortality or serious injury of bottlenose dolphins taken in the Virginia pound net fishery to below PBR.

Timetable:

Action | Date | FR Cite
NPRM | 02/00/12 |
Final Action | 06/00/12 |
Final Rule Effective | 07/00/12 |

Regulatory Flexibility Analysis Required: Yes.

Agency Contact: Melissa Andersen, Fishery Biologist, Management, Department of Commerce, National Oceanic and Atmospheric Administration, 1315 East-West Highway, Silver Spring, MD 20910, Phone: 301 713-2322, Fax: 301 713-2521, Email: melissa.andersen@noaa.gov.

RIN: 0648-BB37

DEPARTMENT OF COMMERCE (DOC)

National Oceanic and Atmospheric Administration (NOAA)

Final Rule Stage

National Marine Fisheries Service

242. Amending Regulations for the Pacific Halibut, Sablefish, and Pollock Fisheries Conducted Under the Western Alaska Community Development Quota (CDQ) Program

Legal Authority: 16 U.S.C. 1801 et seq.; 16 U.S.C. 773 et seq.; 16 U.S.C. 3631 et seq.; Pub. L. 108-447

Abstract: NMFS proposes to amend regulations that govern fisheries managed under the Western Alaska Community Development Quota (CDQ) Program. These revisions are needed to comply with certain changes made to the Magnuson-Stevens Fishery Conservation and Management Act (Magnuson-Stevens Act) in 2006. Proposed changes include revising regulations associated with recordkeeping, vessel licensing, catch retention requirements, and fisheries observer requirements to ensure that they are no more restrictive than the regulations in effect for comparable non-CDQ fisheries managed under individual fishing quotas or cooperative allocations. In addition, NMFS proposes to remove CDQ Program regulations that now are inconsistent with the Magnuson-Stevens Act, including regulations associated with the CDQ allocation process, transfer of groundfish CDQ and halibut prohibited species quota, and the oversight of CDQ groups' expenditures.

Timetable:

Action | Date | FR Cite
NPRM | 07/13/10 | 75 FR 39892
NPRM Comment Period End | 08/12/10 |
Final Rule | 12/00/11 |

Regulatory Flexibility Analysis Required: Yes.

Agency Contact: Robert D. Mecum, Deputy Acting Administrator, Department of Commerce, National Oceanic and Atmospheric Administration, Room 420, 709 West Ninth Street, Juneau, AK 99802, Phone: 907 586-7221, Fax: 907 586-7249, Email: robert.mecum@noaa.gov.

RIN: 0648-AV33

243. Magnuson-Stevens Fishery Conservation and Management Reauthorization Act (MSRA) Environmental Review Procedure

Legal Authority: 16 U.S.C. 1801

Abstract: Section 107 of the Magnuson-Stevens Fishery Conservation and Management Reauthorization Act (MSRA) (Pub. L. 109-479) requires NOAA Fisheries to revise and update Agency procedures for complying with the National Environmental Policy Act (NEPA) in context of fishery management actions. It further requires that NOAA Fisheries consult with the Council on Environmental Quality (CEQ) and the Regional Fishery Management Councils (Councils), and involve the public in the development of the revised procedures. The MSRA provides that the resulting procedures will be the sole environmental impact assessment procedure for fishery management actions, and that they must conform to the time lines for review and approval of fishery management plans and plan amendments. They must also integrate applicable environmental analytical procedures, including the time frames for public input, with the procedure for the preparation and dissemination of fishery management plans, plan amendments, and other actions taken or approved pursuant to this Act in order to provide for timely, clear, and concise analysis that is useful to decision makers and the public, reduce extraneous paperwork, and effectively involve the public.

This rule would revise and update the NMFS procedures for complying with NEPA in the context of fishery management actions developed pursuant to MSRA.

Timetable:

Action | Date | FR Cite
NPRM | 05/14/08 | 73 FR 27998
NPRM Comment Period End | 06/13/08 |
Final Action | 12/00/11 |

Regulatory Flexibility Analysis Required: Yes.

Agency Contact: Steve Leathery, Department of Commerce, National Oceanic and Atmospheric Administration, 1315 East-West Highway, Silver Spring, MD 20910, Phone: 301 713-2239, Email: steve.leathery@noaa.gov.

RIN: 0648-AV53

244. Allowable Modifications to the Turtle Excluder Device Requirements

Legal Authority: 16 U.S.C. 1531 et seq.

Abstract: NMFS proposes to revise the Turtle Excluder Device (TED) requirements to allow new materials and modifications to existing approved TED designs. Specifically, proposed allowable modifications include the use of flat bar, box pipe, and oval pipe for use in currently-approved TED grids; an increase in mesh size on escape flaps from 1⅝ inches to 2 inches; the use of the Boone single straight cut and triangular escape openings; specifications on the use of TED grid brace bars; and the use of the Chauvin Shrimp Kicker to improve shrimp retention.

Timetable:

Action | Date | FR Cite
NPRM | 09/02/10 | 75 FR 53925
NPRM Comment Period End | 10/18/10 |
Final Action | 12/00/11 |

Regulatory Flexibility Analysis Required: Yes.

Agency Contact: Michael Barnette, Fishery Biologist, Department of Commerce, National Oceanic and Atmospheric Administration, 263 13th Avenue South, St. Petersburg, FL 33701, Phone: 727 551-5794, Email: michael.barnette@noaa.gov.

RIN: 0648-AW93

245. Amendment 11 to the Atlantic Mackerel, Squid, Butterfish Fishery Management Plan

Legal Authority: 16 U.S.C. 1801 et seq.

Abstract: Amendment 11 to the Atlantic Mackerel, Squid, Butterfish Fishery Management Plan may consider: (1) Limited access in the Atlantic mackerel (mackerel) fishery; (2) implementation of annual catch limits (ACLs) and accountability measures (AMs) for mackerel and butterfish required under the Magnuson-Stevens Fishery Conservation and Management Reauthorization Act of 2006 (MSRA); (3) updating of the description and identification of essential fish habitat (EFH) for all life stages of mackerel, Loligo squid, Illex squid, and butterfish (including gear impacts on Loligo squid egg EFH); and (4) possible limitations on at-sea processing of mackerel.

Timetable:

Action | Date | FR Cite
Notice of Intent | 08/11/08 | 73 FR 46590
Notice of Availability | 07/06/11 | 76 FR 39374
NPRM | 08/01/11 | 76 FR 45742
Notice of Availability Comment Period End | 09/06/11 |
NPRM Comment Period End | 09/15/11 |
Final Action | 12/00/11 |

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-AX05

246. Amendment 30 to the Fishery Management Plan for Bering Sea and Aleutian Islands King and Tanner Crabs Arbitration Regulations

Legal Authority: 16 U.S.C. 1862; Pub. L. 109-241; Pub. L. 109-479

Abstract: This action implements Amendment 30 to the Fishery Management Plan for Bering Sea and Aleutian Islands King and Tanner Crabs to make minor modifications to the arbitration system used to settle price and other disputes among harvesters and processors in the Bering Sea/Aleutian Islands crab rationalization program.

Timetable:

Action | Date | FR Cite
Notice of Availability | 07/25/11 | 76 FR 44297
NPRM | 08/10/11 | 76 FR 49423
Notice of Availability Comment Period End | 09/23/11 |
Final Action | 12/00/11 |

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-AX47

247. Revoke Inactive Quota Share and Annual Individual Fishing Quota From a Holder of Quota Share Under the Pacific Halibut and Sablefish Fixed Gear Individual Fishing Quota Program

Legal Authority: 16 U.S.C. 1801 et seq.; 16 U.S.C. 773

Abstract: This action amends existing commercial fishing regulations for the fixed-gear Pacific Halibut and sablefish individual fishing quota program at 50 CFR 679. The amendment revokes inactive quota share unless the quota share permit holder affirmatively notices NMFS in writing within 60 days of the Agency's preliminary determination of inactivity that they choose to (a) retain the inactive IFQ quota share, (b) activate the quota share through transfer or by fishing, or (c) appeal the preliminary determination. Quota share that is not activated through this process and is revoked would be proportionally distributed to the quota share pool. This regulatory revision is based on the recommendations of the North Pacific Fishery Management Council in June 2006 and again in February 2009. Amending the regulations will improve the efficiency of the Pacific Halibut and Sablefish IFQ program and augment operational flexibility of participating fishermen.

Timetable:

Action | Date | FR Cite
NPRM | 08/23/10 | 75 FR 51741
NPRM Comment Period End | 09/22/10 |
Final Rule | 12/00/11 |

Regulatory Flexibility Analysis Required: Yes.

Agency Contact: Robert D. Mecum, Deputy Acting Administrator, Department of Commerce, National Oceanic and Atmospheric Administration, Room 420, 709 West Ninth Street, Juneau, AK 99802, Phone: 907 586-7221, Fax: 907 586-7249, Email: robert.mecum@noaa.gov.

RIN: 0648-AX91

248. Addendum IV to the Weakfish Interstate Management Plan—Bycatch Trip Limit

Legal Authority: 16 U.S.C. 5101

Abstract: NMFS proposes regulations that would modify management restrictions in the Federal weakfish fishery in a manner consistent with the Commission's Weakfish Management Board's (Board) approved Addendum IV to Amendment 4 to the ISFMP for Weakfish. In short, the proposed change would decrease the incidental catch allowance for weakfish in the EEZ in nondirected fisheries using smaller mesh sizes, from 150 pounds to no more than 100 pounds per day or trip, whichever is longer in duration. In addition, it would impose a one-fish possession limit on recreational fishers.

Timetable:

Action | Date | FR Cite
NPRM | 05/12/10 | 75 FR 26703
NPRM Comment Period End | 06/11/10 |
NPRM Comment Period Reopened | 06/16/10 | 75 FR 34092
NPRM Comment Period End | 06/30/10 |
Final Action | 05/00/12 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596,Email: alan.risenhoover@noaa.gov.

RIN: 0648-AY41

249. Fisheries of the Exclusive Economic Zone Off Alaska; Pacific Cod Allocations in the Gulf of Alaska; Amendment 83

Legal Authority: 16 U.S.C. 1801 et seq.

Abstract: This rulemaking establishes Pacific cod allocations in the Gulf of Alaska among the jig, trawl, hook-and-line, and pot sectors. This action also limits access to the parallel fishery for Federal fishery participants. This action is necessary to reduce uncertainty and contribute to stability across the sectors, while providing consideration of fishing communities and entry-level opportunities for the jig sector.

Timetable:

Action | Date | FR Cite
Notice of Availability | 06/28/11 | 76 FR 37763
NPRM | 07/26/11 | 76 FR 44700
NPRM Comment Period End | 09/09/11 |
Final Action | 12/00/11 |

Regulatory Flexibility Analysis Required: Yes.

Agency Contact: Robert D. Mecum, Deputy Acting Administrator, Department of Commerce, National Oceanic and Atmospheric Administration, Room 420, 709 West Ninth Street, Juneau, AK 99802, Phone: 907 586-7221, Fax: 907 586-7249, Email: robert.mecum@noaa.gov.

RIN: 0648-AY53

250. Amendment to Correct and Clarify Amendment 16 and Subsequent Frameworks of the Northeast Multispecies Fisheries Management Plan

Legal Authority: 16 U.S.C. 1801 et seq.

Abstract: This action corrects and clarifies the final rule implementing Amendment 16 to the Northeast Multispecies Fishery Management Plan, as well as subsequent groundfish actions. These corrections are administrative in nature and are intended to correct inaccurate references and other inadvertent errors and to clarify specific regulations to maintain consistency with the intent of Amendment 16 and subsequent actions.

Timetable:

Action | Date | FR Cite
NPRM | 05/02/11 | 76 FR 24444
NPRM Comment Period End | 05/17/11 |
Interim Final Rule | 07/19/11 | 76 FR 42577
Interim Final Rule Effective | 07/19/11 |
Interim Final Rule Comment Period End | 08/18/11 |
Final Action | 12/00/11 |

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-AY95

251. Fishing Capacity Reduction Program for the Southeast Alaska Purse Seine Salmon Fishery

Legal Authority: 16 U.S.C. 1801 et seq.; 46 U.S.C. 53701 et seq.; Pub. L. 108-447; Pub. L. 109-447; Pub. L. 110-161

Abstract: This rule would implement a Capacity Reduction Program for the Southeast Alaska Purse Seine Salmon Fishery, which is a State-controlled fishery. This program is voluntary and holders of valid limited-entry permits issued by the Alaska Commercial Fisheries Entry Commission to operate in the Southeast Alaska Purse Seine Salmon Fishery are eligible to participate. Permit holders in the program will receive up to $23.5 million, in the aggregate, in exchange for relinquishing permits. NMFS would issue a 30-year loan to finance the buyback, and the loan would be repaid by those harvesters remaining in the fishery. The intent of this rule is to permanently reduce the most harvesting capacity in the fishery at the least cost, which should result in increased harvesting productivity for postreduction permit holders participating in the fishery and improve flexibility in the conservation and management of the fishery. The rule would also establish a fee collection system to ensure repayment of the loan.

Timetable:

Action | Date | FR Cite
NPRM | 05/23/11 | 76 FR 29707
NPRM Comment Period End | 06/22/11
Final Action | 01/00/12

Regulatory Flexibility Analysis Required: Yes.

Agency Contact: Gary C. Reisner, Director, Office of Management and Budget, Department of Commerce, National Oceanic and Atmospheric Administration, 1315 East-West Highway, Silver Spring, MD 20910, Phone: 301 713-2259, Fax: 301 713-1464, Email: gary.reisner@noaa.gov.

RIN: 0648-BA13

252. Amendment 3 to the Atlantic Deep-Sea Red Crab Fishery Management Plan

Legal Authority: 16 U.S.C. 1801

Abstract: This action is required to bring the Atlantic Deep-Sea Red Crab FMP into compliance with the reauthorized Magnuson-Stevens Fishery Conservation and Management Act by incorporating an annual catch limit (ACL) and accountability measures (AMs). The Red Crab FMP may also be modified to implement a “hard quota” (or total allowable landings (TAL)) in place of the current target total allowable catch (TAC) and days-at-sea (DAS) system. Other management measures currently in place may be modified or eliminated.

Timetable:

Action | Date | FR Cite
Notice of Availability | 06/22/11 | 76 FR 36511
NPRM | 07/06/11 | 76 FR 39369
NPRM Comment Period End | 08/05/11
Notice of Availability Comment Period End | 08/22/11
Final Action | 12/00/11

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-BA22

253. Framework Adjustment 45 to the Northeast Multispecies Fishery Management Plan

Legal Authority: 16 U.S.C. 1801 et seq.

Abstract: The New England Fishery Management Council (Council) developed Framework Adjustment 45 to the Northeast Multispecies FMP to implement measures to update status determination criteria for pollock; revise the rebuilding program for Georges Bank yellowtail flounder; revise annual catch limits for several stocks; implement additional sectors, including State-sponsored permit banks; modify a scallop exemption area; revise monitoring requirements; and implement a spawning closure area in the Gulf of Maine. These measures are expected to continue efforts to rebuild overfished stocks, minimize costs to industry, and increase the economic efficiency of vessel operations.

Timetable:

Action | Date | FR Cite
NPRM | 03/03/11 | 76 FR 11858
NPRM Comment Period End | 03/18/11
Final Rule | 04/25/11 | 76 FR 23042
Temporary Final Rule | 06/15/11 | 76 FR 34903
Final Action—Adjustments | 12/00/11

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-BA27

254. Modification of Regulations Governing the Retention of Incidentally Caught Highly Migratory Species in Atlantic Trawl Fisheries

Legal Authority: 16 U.S.C. 1801

Abstract: This rule modifies the regulations governing Atlantic highly migratory species (HMS) to address the retention of incidentally caught North Atlantic swordfish in squid trawl fisheries, and the retention of incidentally caught species in the smoothhound shark complex (which includes smooth dogfish and Florida smoothhound (genus Mustelus)) in all Atlantic trawl fisheries. Trawl gear is not authorized in Atlantic HMS fisheries, but an allowance for the retention of incidentally caught swordfish in trawl gear has been established to reduce regulatory discards. This rule modifies the allowance for incidentally caught HMS in trawl gear to reduce regulatory dead discards, to the extent practicable, by converting discards into landings, improve fishery data collection, provide additional opportunities for the U.S. swordfish quota to be caught, and accommodate traditional fishing methods (i.e., trawls) that incidentally capture North Atlantic swordfish and smoothhound shark species.

Timetable:

Action | Date | FR Cite
NPRM | 03/18/11 | 76 FR 14884
NPRM Comment Period End | 04/17/11
Final Rule | 08/10/11 | 76 FR 49368
Final Action | 12/00/11

Regulatory Flexibility Analysis Required: Yes.

Agency Contact: Margo Schulze-Haugen, Supervisory Fish Management Officer, Department of Commerce, National Oceanic and Atmospheric Administration, 1315 East-West Highway, Silver Spring, MD 20910, Phone: 301 713-0234, Fax: 301 713-1917, Email: margo.schulze-haugen@noaa.gov.

RIN: 0648-BA45

255. Framework Adjustment 7 to the Monkfish Fishery Management Plan

Legal Authority: 16 U.S.C. 1801 et seq.

Abstract: Framework Adjustment 7 to the Monkfish FMP adjusts the annual catch target (ACT) for the Northern Fishery Management Area (NFMA) to be consistent with the most recent scientific advice regarding the acceptable biological catch (ABC) for monkfish. The New England Fishery Management Council's Scientific and Statistical Committee (SSC) has recommended a revision to the ABC, based on the recent stock assessment (SARC 50), that is lower than the ACT for the NFMA proposed in Amendment 5 to the Monkfish FMP. Specifically, the SSC recommended a revised NFMA ABC of 7,592 mt, which is 29 percent lower than the NFMA ACT of 10,750 mt proposed in Amendment 5. Conversely, the recalculated ABC for the Southern Fishery Management Area (SFMA) is 850 mt higher than the Council's recommended ACT for that area. Thus, no change is proposed for the SFMA. Framework 7 also specifies a new day-at-sea (DAS) allocation and trip limits for the NFMA commensurate with the new ACT (as necessary), and adopts revised biomass reference points based on the recommendations of SARC 50 and the SSC.

Timetable:

Action | Date | FR Cite
NPRM | 08/05/11 | 76 FR 47533
NPRM Comment Period End | 09/06/11
Final Action | 12/00/11

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-BA46

256. Atlantic Highly Migratory Species; Vessel Monitoring Systems

Legal Authority: 16 U.S.C. 1801 et seq.; 16 U.S.C. 971 et seq.

Abstract: The National Marine Fisheries Service (NMFS) will require replacement of currently required Mobile Transmitting Unit (MTU) VMS units with Enhanced Mobile Transmitting Unit (E-MTU) VMS units in Atlantic Highly Migratory Species (HMS) fisheries, implement a declaration system that requires vessels to declare target fishery and gear type(s) possessed on board, and require that a qualified marine electrician install all E-MTU VMS units. This rulemaking removes dated MTU VMS units from service in Atlantic HMS fisheries, makes Atlantic HMS VMS requirements consistent with other VMS monitored Atlantic fisheries, provides the National Oceanic and Atmospheric Administration Office of Law Enforcement (NMFS) with enhanced communication with HMS vessels at sea, and could increase the level of safety at sea for HMS fishery participants. This rule affects all HMS Pelagic Longline (PLL), Bottom Longline (BLL), and shark gillnet fishermen who are currently required to have VMS onboard their vessels.

Timetable:

Action | Date | FR Cite
NPRM | 06/21/11 | 76 FR 36071
NPRM Correction | 06/29/11 | 76 FR 38107
Notice of Additional Public Meetings | 07/01/11 | 76 FR 38598
NPRM Comment Period End | 08/01/11
Final Action | 12/00/11

Regulatory Flexibility Analysis Required: Yes.

Agency Contact: Margo Schulze-Haugen, Supervisory Fish Management Officer, Department of Commerce, National Oceanic and Atmospheric Administration, 1315 East-West Highway, Silver Spring, MD 20910, Phone: 301 713-0234, Fax: 301 713-1917, Email: margo.schulze-haugen@noaa.gov.

RIN: 0648-BA64

257. Atlantic Highly Migratory Species; Implementing International Convention for the Conservation of Atlantic Tunas Recommendations on Sharks

Legal Authority: 16 U.S.C. 1801 et seq.; 16 U.S.C. 971 et seq.

Abstract: This action implements two recommendations adopted at the 2010 annual meeting of the International Commission for the Conservation of Atlantic Tunas (ICCAT). Recommendation 10-07 prohibits the retention, transshipping, landing, storing, or selling of oceanic whitetip sharks. Recommendation 10-08 prohibits the retention, transshipping, landing, storing, or selling of hammerhead sharks in the family Sphyrnidae, except for Sphyrnidae tiburo, taken in the Convention area in association with ICCAT fisheries.

Timetable:

Action | Date | FR Cite
NPRM | 04/29/11 | 76 FR 23935
NPRM Comment Period End | 05/31/11
Final Rule | 08/29/11 | 76 FR 53652
Final Rule Effective | 09/28/11
Final Action | 12/00/11

Regulatory Flexibility Analysis Required: Yes.

Agency Contact: Margo Schulze-Haugen, Supervisory Fish Management Officer, Department of Commerce, National Oceanic and Atmospheric Administration, 1315 East-West Highway, Silver Spring, MD 20910, Phone: 301 713-0234, Fax: 301 713-1917, Email: margo.schulze-haugen@noaa.gov.

RIN: 0648-BA69

258. Amendment 15 to the Atlantic Sea Scallop Fishery Management Plan

Legal Authority: 16 U.S.C. 1801

Abstract: Amendment 15 to the Atlantic Sea Scallop Fishery Management Plan (Scallop FMP) was developed by the New England Fishery Management Council (Council) to implement Annual Catch Limits (ACLs) and Accountability Measures (AMs) to come into compliance with new requirements of the Magnuson-Stevens Fishery Conservation and Management Act (MSA). In addition, Amendment 15 to the Scallop FMP includes measures that would make management of the scallop fishery more effective including: Modification of the overfishing definition for scallops; an increase in the possession limit for Limited Access General Category (LAGC) vessels; an allowance for carryover of Individual Fishing Quotas (IFQ) for LAGC vessels; a provision to enable LAGC vessel owners to permanently transfer IFQ separate from a vessel's LAGC permit; revision of the essential fish habitat closures under the Scallop FMP; and several changes to the scallop research set-aside program.

Timetable:

Action | Date | FR Cite
Notice of Availability | 03/24/11 | 76 FR 16595
NPRM | 04/11/11 | 76 FR 19929
NPRM Comment Period End | 05/26/11
Final Rule | 07/21/11 | 76 FR 43746
Final Action—Correction | 12/00/11

Regulatory Flexibility Analysis Required: Yes.

Agency Contact: Peter Christopher, Department of Commerce, National Oceanic and Atmospheric Administration, 55 Great Republic Drive, Gloucester, MA 01930, Phone: 978 281-9288.

RIN: 0648-BA71

259. Framework Adjustment 22 to the Scallop Fishery Management Plan

Legal Authority: 16 U.S.C. 1801

Abstract: Framework 22 to the Atlantic Sea Scallop FMP (Framework 22) sets management measures for the scallop fishery for the 2011-2013 Fishing Years (FYs), including the Annual Catch Limits (ACL) and annual catch targets for the limited access and limited access general category fleets based on the ACL framework proposed in Amendment 15 to the FMP. In addition, Framework 22 revises the scallop access area schedules for FYs 2011-2013, sets the scallop Days-At-Sea (DAS) allocations and sea scallop access area trip allocations, and sets measures to minimize impacts of incidental take of sea turtles in the Mid-Atlantic Total Allowable Catches (TACs) for the Northern Gulf of Maine management area, observer set-aside, and incidental landings (target TAC).

Timetable:

Action | Date | FR Cite
NPRM | 04/29/11 | 76 FR 23940
NPRM Comment Period End | 05/31/11
Final Action | 07/21/11 | 76 FR 43774
Final Action Effective | 08/01/11
Correcting Amendment | 12/00/11

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-BA72

260. Atlantic Highly Migratory Species Electronic Dealer Reporting Requirements

Legal Authority: 16 U.S.C. 1801 et seq.

Abstract: This rulemaking requires all federally-permitted Atlantic Highly Migratory Species (HMS) dealers to report commercially caught HMS (i.e., Atlantic sharks, tunas, and swordfish) to the National Marine Fisheries Service (NMFS) through an electronic reporting system. In addition, this rulemaking clarifies that a dealer is only authorized to buy commercially caught HMS if the dealer reports have been submitted to NMFS in a timely manner. Any delinquent reports need to be submitted and accepted before a dealer can buy commercially caught HMS. Finally, this rulemaking requires that all commercially harvested HMS caught by federally permitted fishermen be offloaded to federally-permitted and certified HMS dealers, who must report the associated catch to NMFS. These measures are necessary to ensure timely and accurate reporting, which is critical for quota monitoring and management of HMS.

Timetable:

Action | Date | FR Cite
NPRM | 06/28/11 | 76 FR 37750
NPRM Comment Period End | 08/12/11
Final Action | 12/00/11

Regulatory Flexibility Analysis Required: Yes.

Agency Contact: Margo Schulze-Haugen, Supervisory Fish Management Officer, Department of Commerce, National Oceanic and Atmospheric Administration, 1315 East-West Highway, Silver Spring, MD 20910, Phone: 301 713-0234, Fax: 301 713-1917, Email: margo.schulze-haugen@noaa.gov.

RIN: 0648-BA75

261. Bering Sea Chinook Salmon Economic Data Reporting Program

Legal Authority: 16 U.S.C. 1801 et seq.; 16 U.S.C. 1851; 16 U.S.C. 3631 et seq.

Abstract: NMFS implements the Chinook Salmon Economic Data Program to evaluate the effectiveness of Chinook salmon bycatch management measures for the Bering Sea pollock fishery that were implemented under Amendment 91 to the Fishery Management Plan for Groundfish of the Bering Sea and Aleutian Islands Management Area (FMP). The rule is intended to promote the goals and objectives of the FMP, the Magnuson-Stevens Fishery Conservation and Management Act, and other applicable law.

To collect the data, NMFS requires submission of each of the following three reports/surveys. These will be in a fillable electronic format available on the NMFS AKR Web site. Representatives of AFA catcher/processor and mothership sectors, inshore cooperatives, the inshore open access fishery, and CDQ groups will be responsible to submit the Chinook EDR. The Reports/Surveys are: Chinook Salmon PSC Allocation Compensated Transfer Report (CTR); Vessel Fuel Survey; and the Vessel Master Survey.

In addition to these reports/surveys, NMFS will collect new information concerning vessel movements on the fishing grounds and more general data on pollock allocations and transfers through revisions of requirements to the existing IPA Annual Report.

Timetable:

Action | Date | FR Cite
NPRM | 07/18/11 | 76 FR 42099
NPRM Comment Period End | 08/17/11 |
Final Rule | 12/00/11

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BA80

262. • Central Gulf of Alaska Rockfish Program Fishery Management Plan GOA 88

Legal Authority: 16 U.S.C. 1801

Abstract: Amendment 88 would implement the Central Gulf of Alaska Rockfish Program to replace the existing regulations for the Rockfish Pilot Program that are scheduled to expire at the end of 2011. This program would allocate exclusive harvest privileges to a select group of License Limitation Program (LLP) license holders who used trawl gear to target Pacific ocean perch, pelagic shelf rockfish, and northern rockfish during a suite of qualifying years. It would retain the conservation, management, safety, and economic gains realized under the rockfish pilot program and resolve identified issues in the management and viability of each sector. This program, if approved, would be implemented in 2012.

Timetable:

Action | Date | FR Cite
Notice of Availability | 07/28/11 | 76 FR 45217
NPRM | 08/19/11 | 76 FR 52148
NPRM Commend Period End | 09/19/11 |
Final Rule | 12/00/11

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BA97

263. • Repeal of the Fishery Management Plan for the Stone Crab Fishery of the Gulf of Mexico

Legal Authority: 16 U.S.C. 1801 et seq.

Abstract: This action repeals the Fishery Management Plan for the Stone Crab Fishery of the Gulf of Mexico (FMP) and removes its implementing regulations, as requested by the Gulf of Mexico Fishery Management Council (Council). The stone crab fishery takes place primarily in State waters (off the coast of Florida) and Florida's Fish and Wildlife Conservation Commission (FWC) is extending its management into Federal waters. Repealing the Federal regulations would eliminate duplication of management efforts, reduce costs, and align with the President's Executive Order 13563, “Improving Regulation and Regulatory Review,” to ensure Federal regulations are more effective and less burdensome in achieving regulatory objectives. The intended effect of this action is to enhance the effectiveness and efficiency of managing the stone crab fishery in the Gulf of Mexico (Gulf).

Timetable:

Action | Date | FR Cite
NPRM | 07/20/11 | 76 FR 43250
NPRM Comment Period End | 08/19/11 |
Final Action | 12/00/11

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BB07

264. • Implement Framework Adjustment 46 to the Northeast Multispecies Fishery Management Plan

Legal Authority: 16 U.S.C. 1801 et seq.

Abstract: NMFS proposes regulations to implement measures in Framework Adjustment (FW) 46 to the NE Multispecies Fishery Management Plan (FMP). FW 46 was developed and submitted to NMFS for approval by the New England Fishery Management Council (Council) to address haddock catch in the Atlantic herring fishery. The proposed rule would increase the haddock incidental catch cap allocated to the Atlantic midwater trawl herring fishery to 1 percent of the Georges Bank (GB) haddock Acceptable Biological Catch (ABC), and to 1 percent of the Gulf of Maine (GOM) haddock ABC. In addition, this action would modify the cap accountability measures (AMs) such that, upon attainment of the cap, the midwater trawl herring fleet could not catch or land herring in excess of the incidental catch limit (2,000 lb (907.2 kg)) in or from the appropriate haddock stock area. This action is intended to allow the herring fishery to fully utilize available herring quota, while providing incentives for the midwater trawl fishery to minimize haddock catch.

Timetable:

Action | Date | FR Cite
NPRM | 07/19/11 | 76 FR 42663
NPRM Comment Period End | 08/03/11 |
Final Action | 12/00/11

Regulatory Flexibility Analysis Required: Yes.

Agency Contact: Melissa Vasquez, Fishery Policy Analyst, Department of Commerce, National Oceanic and Atmospheric Administration, 55 Great Republic Drive, Gloucester, MA 01930, Phone: 978 281-9166, Email: melissa.vasquez@noaa.gov.

RIN: 0648-BB08

265. • Supplement Amendment 26 and Amendment 29 to the Reef Fish Fishery Management Plan (FMP) of the Gulf of Mexico

Legal Authority: 16 U.S.C. 1801 et seq.

Abstract: Amendment 26 to the Reef Fish fishery management plan (FMP) established the Gulf of Mexico Red Snapper Individual Fishing Quota (IFQ) program. This amendment contains provisions to allow public participation after 5 years of the program. As of January 1, 2012, all U.S. citizens and permanent resident aliens are eligible to participate in the Gulf Red Snapper IFQ program. Amendment 29 to the Reef Fish FMP established the Gulf of Mexico Grouper-Tilefish IFQ program. Under the revised Magnuson-Stevens Act (MSA) of 2007, regulations require any participant in IFQ programs to be U.S. citizens. Currently, information verifying U.S. citizenship is not collected on Federal Reef Fish permit applications. The intended effect of this action is to establish the requirements and procedures for collecting information necessary to identify participants in order to monitor, enforce, and review the IFQ program as specified in Amendments 26 and Amendment 29 to the Reef Fish FMP. This action establishes the requirement that any U.S. citizen, or permanent resident alien applying for participation, or person previously issued an IFQ online account by NOAA Fisheries Service's Southeast Region must provide such information on an IFQ online account application to obtain an IFQ online account.

Timetable:

Action | Date | FR Cite
NPRM | 08/17/11 | 76 FR 50979
NPRM Comment Period End | 09/16/11 |
Final Action | 12/00/11

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BB15

266. • Emergency Rule to Increase the 2011 Catch Limits for the Northeast Skate Complex

Legal Authority: 16 U.S.C. 1801 et seq.

Abstract: The proposed temporary emergency rule would increase the skate complex Acceptable Biological Catch (ABC), Annual Catch Limit (ACL), Annual Catch Target (ACT), and annual Total Allowable Landings (TALs) consistent with best available scientific information, and the procedures contained in the Northeast Skate Complex Fishery Management Plan. The Council requested the emergency action after receiving a new recommendation for ABC from the Scientific and Statistical Committee in June 2011. The action is needed to extend the fishing season for the directed skate fisheries, and help avoid the economic impacts of a potential fishery closure before the end of the fishing year.

Timetable:

Action | Date | FR Cite
NPRM | 08/30/11 | 76 FR 53872
NPRM Comment Period End | 09/14/11 |
Final Action | 12/00/11

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-BB32

267. • Rule to Delay the Effective Date of Atlantic Smoothhound Management Measures

Legal Authority: 16 U.S.C. 1801

Abstract: NMFS is delaying the effective date of smoothhound management measures implemented in the Final Rule for Amendment 3 to the 2006 Consolidated Highly Migratory Species (HMS) Fishery Management Plan (FMP) (June 1, 2010). This action is necessary to ensure recent legislation, namely the 2010 Shark Conservation Act, is fully considered and to allow time for a Section 7 consultation under the Endangered Species Act (ESA) to be completed. NMFS expects that the smoothhound management measures would become effective upon the effective date of the rule implementing the Shark Conservation Act smooth dogfish measures or following completion of the Section 7 Biological Opinion, whichever is later.

Timetable:

Action | Date | FR Cite
Final Rule | 12/00/11 |

Regulatory Flexibility Analysis Required: Yes.

Agency Contact: Margo Schulze-Haugen, Supervisory Fish Management Officer, Department of Commerce, National Oceanic and Atmospheric Administration, 1315 East-West Highway, Silver Spring, MD 20910, Phone: 301 713-0234, Fax: 301 713-1917, Email: margo.schulze-haugen@noaa.gov.

RIN: 0648-BB43

268. Revision of Critical Habitat Designation for the Endangered Leatherback Sea Turtle

Legal Authority: 16 U.S.C. 1531 et seq.

Abstract: The National Marine Fisheries Service announces a rule to revise leatherback turtle (Dermochelys coriacea) critical habitat under the Endangered Species Act of 1973, as amended. The leatherback is currently listed as endangered throughout its range, and critical habitat consists of Sandy Point Beach and adjacent waters, St. Croix, U.S. Virgin Islands. This rule revises critical habitat to include waters along the U.S. West Coast.

Timetable:

Action | Date | FR Cite
NPRM | 01/05/10 | 75 FR 319
Notice of Public Hearings | 02/01/10 | 75 FR 5015
NPRM Comment Period Extension | 02/19/10 | 75 FR 7434
NPRM Comment Period End | 03/08/10 |
NPRM Comment Period Extension End | 04/19/10 |
Final Action | 12/00/11 |

Regulatory Flexibility Analysis Required: Yes.

Agency Contact: Sara McNulty, Ecologist, Department of Commerce, National Oceanic and Atmospheric Administration, 1315 East-West Highway, Silver Spring, MD 20910, Phone: 301 713-2322, Fax: 301 713-4060, Email: sara.mcnulty@noaa.gov.

RIN: 0648-AX06

269. Designating Critical Habitat for the Endangered Black Abalone

Legal Authority: 16 U.S.C. 1531 to 1543

Abstract: Under section 4 of the Endangered Species Act (ESA), the Secretary of Commerce (Secretary) shall designate critical habitat for species listed as threatened or endangered. This rulemaking designates critical habitat for the endangered black abalone. Once critical habitat is designated, Federal agencies are required to comply with section 7 of the ESA to ensure activities they carry out, authorize, or fund do not destroy or adversely affect this designated critical habitat. An economic analysis report, biological report, and ESA section 4(b)(2) analysis report prepared in support of this rulemaking will be available for public review and comment.

Timetable:

Action | Date | FR Cite
NPRM | 09/28/10 | 75 FR 59900
NPRM Comment Period End | 11/29/10 |
Final Action | 12/00/11 |

Regulatory Flexibility Analysis Required: Yes.

Agency Contact: Melissa Neuman, Fish Biologist, Department of Commerce, National Oceanic and Atmospheric Administration, Suite 4200, 501 West Ocean Boulevard, Long Beach, CA 90802, Phone: 562 980-4115, Fax: 562 980-4027, Email: melissa.neuman@noaa.gov.

RIN: 0648-AY62

270. False Killer Whale Take Reduction Plan (Section 610 Review)

Legal Authority: 16 U.S.C. 1361 et seq.

Abstract: NMFS is undertaking rulemaking to implement a False Killer Whale Take Reduction Plan (FKWTRP). The FKWTRP is based on consensus recommendations submitted by the False Killer Whale Take Reduction Team (FKWTRT). This action is necessary because current serious injury and mortality rates of the Hawaii Pelagic stock of false killer whales incidental to the Category I Hawaii-based deep-set (tuna target) longline fishery and Category II Hawaii-based shallow-set (swordfish target) fishery are above the stock's potential biological removal (PBR) level, and therefore inconsistent with the short-term goal of the Marine Mammal Protection Act (MMPA). Additionally, serious injury and mortality rates of the Hawaii Insular stock and Palmyra Atoll stocks of false killer whales incidental to the Hawaii-based deep-set longline fishery are above insignificant levels approaching a zero mortality and serious injury rate, and therefore inconsistent with the long-term goal of the MMPA. The FKWTRP is intended to meet the statutory mandates and requirements of the MMPA through both regulatory and nonregulatory measures, and research and data collection priorities.

Timetable:

Action | Date | FR Cite
NPRM | 07/18/11 | 76 FR 42082
NPRM Comment Period Ends | 10/17/11 |
Final Action | 01/00/12 |

Regulatory Flexibility Analysis Required: Yes.

Agency Contact: Kristy Long, Fisheries Biologist, Department of Commerce, National Oceanic and Atmospheric Administration, Room 13738, 1315 East-West Highway, Silver Spring, MD 20910, Phone: 301 713-2322, Fax: 301 427-2522, Email: kristy.long@noaa.gov.

RIN: 0648-BA30

271. Endangered and Threatened Species, Designation of Critical Habitat for Southern Distinct Population Segment of Eulachon

Legal Authority: 16 U.S.C. 1533

Abstract: We, the National Marine Fisheries Service (NMFS), propose to designate critical habitat for the southern Distinct Population Segment (DPS) of Pacific eulachon (Thaleichthys pacificus), which was recently listed as threatened under the Endangered Species Act (ESA). We have proposed 12 specific areas for designation as critical habitat within the states of California, Oregon, and Washington. The proposed areas are a combination of freshwater creeks and rivers and their associated estuaries which comprise approximately 470 km (292 mi) of habitat. Three particular areas are proposed for exclusion after evaluating the impacts and benefits associated with tribal land ownership and management by Indian tribes, but no areas are proposed for exclusion based on economic impacts.

Timetable:

Action | Date | FR Cite
NPRM | 01/05/11 | 76 FR 515
NPRM Comment Period End | 03/07/11 |
Final Action | 12/00/11 |

Regulatory Flexibility Analysis Required: Yes.

Agency Contact: Marta Nammack, Office of Protected Resources, Department of Commerce, National Oceanic and Atmospheric Administration, 1315 East-West Highway, Silver Spring, MD 20910, Phone: 301 713-1401, Fax: 301 427-2523, Email: marta.nammack@noaa.gov.

RIN: 0648-BA38

272. Revision of Hawaiian Monk Seal Critical Habitat

Legal Authority: 16 U.S.C. 1533.

Abstract: On July 9, 2008, NMFS received a petition from the Center for Biological Diversity, Kahea, and the Ocean Conservancy to revise the Hawaiian monk seal critical habitat designation by adding the following areas in the main Hawaiian Islands (MHI): Key beach areas, sand spits, and islets, including all beach crest vegetation to its deepest extent inland; lagoon waters; inner reef waters; and ocean waters out to a depth of 200 meters. In addition, the petitioners requested that designated critical habitat in the NWHI be extended to include Sand Island at Midway, as well as ocean waters out to a depth of 500 meters. On October 3, 2008, NMFS announced in the 90-day finding that the petition presented substantial scientific information indicating that a revision to the current critical habitat designation may be warranted. On June 12, 2009, in the 12-month finding, NMFS announced that a revision to critical habitat is warranted, on account of new information available regarding habitat use by the Hawaiian monk seal, and announced our intention to proceed toward a proposed rule. This rule describes the critical habitat designation, including supporting information on Hawaiian monk seal biology, distribution, and habitat use, and the methods used to develop the proposed revision to Hawaiian monk seal critical habitat.

Timetable:

Action | Date | FR Cite
NPRM | 06/02/11 | 76 FR 32026
Notice of Public Meetings | 07/14/11 | 76 FR 41446
NPRM Comment Period End | 08/31/11 |
Final Action | 06/00/12 |

Regulatory Flexibility Analysis Required: Yes.

Agency Contact: James H. Lecky, Director, Office of Protected Resources, Department of Commerce, National Oceanic and Atmospheric Administration, 1315 East-West Highway, Silver Spring, MD 20910, Phone: 301 713-2332, Fax: 301 427-2520, Email: jim.lecky@noaa.gov.

RIN: 0648-BA81

DEPARTMENT OF COMMERCE (DOC)

National Oceanic and Atmospheric Administration (NOAA)

Completed Actions

273. Amendment 4 to the Atlantic Herring Fishery Management Plan

Legal Authority: 16 U.S.C. 1801 et seq.

Abstract: The goal of Amendment 4 is to improve catch monitoring and ensure compliance with the Reauthorized Magnuson-Stevens Fishery Conservation and Management Act (MSRA). The management measures developed in this amendment may address one or more of the following objectives: (1) To implement measures to improve the long-term monitoring of catch (landings and bycatch) in the herring fishery; (2) to implement annual catch limits and accountability measures consistent with the MSRA; (3) to implement other management measures as necessary to ensure compliance with the new provisions of the MSRA; (4) to develop a sector allocation process or other limited access privilege program for the herring fishery; and (5) in the context of objectives 1-4 (above), to consider the health of the herring resource and the important role of herring as a forage fish and a predator fish throughout its range.

The New England Fishery Management Council will develop conservation and management measures to address the issues identified above and meet the goals/objectives of the amendment. Any conservation and management measures developed in this amendment also must comply with all applicable laws.

Timetable:

Action | Date | FR Cite
Notice of Intent | 05/08/08 | 73 FR 26082
Notice of Availability | 08/12/10 | 75 FR 48920
Notice of Availability Comment Period End | 10/12/10 |
NPRM | 10/18/10 | 75 FR 63791
NPRM Comment Period End | 12/02/10 |
Final Action | 03/02/11 | 76 FR 11373

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-AW75

274. Correction and Clarification to Amendment 13 and Subsequent Frameworks of the Northeast Multispecies Fishery Management Plan

Legal Authority: 16 U.S.C. 1801 et seq.

Abstract: This action would make corrections and clarifications to the final rule implementing Amendment 13 to the Northeast Multispecies Fishery Management Plan, as well as subsequent groundfish actions. These corrections are administrative in nature and are intended to correct inaccurate references and other inadvertent errors and to clarify specific regulations to maintain consistency with the intent of Amendment 13 and subsequent actions.

Timetable:

Action | Date | FR Cite
No Further Action | 08/10/11 |

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-AW95

275. Implementation of Compatible Regulations With U.S. Virgin Islands Territorial Waters

Legal Authority: 16 U.S.C. 1801 et seq.

Abstract: At the June 2009 Council meeting, the Caribbean Fishery Management Council decided to amend the Fishery Management Plan for Queen Conch Resources of Puerto Rico and the U.S. Virgin Islands (U.S.V.I.) to establish compatible regulations with U.S.V.I. territorial regulations. Currently, fishing for and possession of Queen Conch is prohibited in the Exclusive Economic Zone, with the exception of an area known as Lang Bank east of St. Croix, which is open to harvest of Queen Conch from October 1 through June 30. In U.S.V.I. territorial waters, Queen Conch is managed under a 50,000-pound quota. This action implements compatible regulations which will close the harvest of Queen Conch in Federal waters, including Lang Bank, once the quota has been reached in the U.S.V.I. and the fishery is closed in territorial waters.

Timetable:

Action | Date | FR Cite
NPRM | 01/20/11 | 76 FR 3596
NPRM Comment Period End | 02/22/11 |
Final Rule | 04/29/11 | 76 FR 23907
Final Action—Correction | 05/26/11 | 76 FR 30554
Final Action Effective | 05/31/11 |

Regulatory Flexibility Analysis Required: Yes.

Agency Contact: Roy E. Crabtree, Southeast Regional Administrator, Department of Commerce, National Oceanic and Atmospheric Administration, 263 13th Avenue South, St. Petersburg, FL 3370, Phone: 727 824-5305, Fax: 727 824-5308, Email: roy.crabtree@noaa.gov.

RIN: 0648-AY03

276. Fisheries Off West Coast States; Pacific Coast Groundfish Fishery; 2011 to 2012 Biennial Specifications and Management Measures; FMP Amendment 16-5 and FMP Amendment 23

Legal Authority: 16 U.S.C. 1801 et seq.

Abstract: This rule sets the 2011 to 2012 harvest specifications and management measures for groundfish taken in the U.S. exclusive economic zone off the coasts of Washington, Oregon, and California. This rule also implements Pacific Coast Groundfish Fishery Management Plan Amendments 16-5 and 23.

Timetable:

Action | Date | FR Cite
Notice of Availability | 10/01/10 | 75 FR 60709
NPRM | 11/03/10 | 75 FR 67810
Notice of Availability Comment Period End | 11/30/10 |
NPRM Comment Period Extension | 12/03/10 | 75 FR 75449
NPRM Comment Period End | 12/03/10 |
NPRM Comment Period Extension Ends | 01/04/11 |
Final Rule | 05/11/11 | 76 FR 27508
Interim Final Rule | 06/15/11 | 76 FR 34910
Interim Final Rule Comment Period End | 07/15/11 |
Final Action; Correcting Amendment | 09/02/11 | 76 FR 54713
Final Rule Effective | 09/02/11 |

Regulatory Flexibility Analysis Required: Yes.

Agency Contact: Frank Lockhart, Program Analyst, Department of Commerce, National Oceanic and Atmospheric Administration, 7600 Sand Point Way NE., Seattle, WA 98115, Phone: 206 526-6142, Fax: 206 526-6736, Email: frank.lockhart@noaa.gov.

RIN: 0648-BA01

277. Emergency Rule to Reopen the Recreational Red Snapper Season in the Gulf of Mexico

Legal Authority: 16 U.S.C. 1801 et seq.

Abstract: The Gulf of Mexico Fishery Management Council (Council) has requested that NOAA Fisheries Service publish an emergency rule that will provide authority to the Regional Administrator to reopen the recreational red snapper season after the September 30, 2010, end of the fishing season, if it is determined that landings during the June 1 to July 23 open season did not meet the quota.

Timetable:

Action | Date | FR Cite
NPRM | 08/16/10 | 75 FR 49883
NPRM Comment Period End | 08/31/10 |
Final Emergency Rule | 09/24/10 | 75 FR 58335

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BA06

278. 2011 Atlantic Bluefish Specifications

Legal Authority: 16 U.S.C. 1801

Abstract: This action establishes 2011 Atlantic bluefish specifications, including State-by-State commercial quotas, a recreational harvest limit, and recreational possession limits for Atlantic bluefish off the east coast of the United States. The action also revises the Atlantic bluefish regulations for the specification of overall total allowable landings and the target fishing mortality rate to more clearly reflect the intent of the Atlantic Bluefish Fishery Management Plan.

Timetable:

Action | Date | FR Cite
NPRM | 01/14/11 | 76 FR 2640
NPRM Comment Period End | 01/31/11 |
Final Action | 03/31/11 | 76 FR 17789
Final Action Effective | 05/02/11 |

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-BA26

279. Implementation of a Recreational Seasonal Closure for Greater Amberjack; Regulatory Framework Action to the Fishery Management Plan for Reef Fish Resources of the Gulf of Mexico (FMP)

Legal Authority: 16 U.S.C. 1801 et seq.

Abstract: To reduce the probability of early in-season closures for recreational greater amberjack in the Gulf of Mexico, this rule closes the greater amberjack recreational fishing season annually from June 1 through July 31. The intended effect of this rule is to maintain the rebuilding plan targets for the overfished greater amberjack, prevent the annual catch limit from being exceeded, and maximize the number of fishing days available to the recreational sector.

Timetable:

Action | Date | FR Cite
NPRM | 01/24/11 | 76 FR 4084
NPRM Comment Period End | 02/23/11 |
NPRM Comment Period Reopened | 03/10/11 | 76 FR 13122
NPRM Reopened Comment Period End | 03/25/11 |
Final Action | 04/29/11 | 76 FR 23904

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BA48

280. Amendment 10 to the Fishery Management Plan for the Snapper-Grouper Fishery of the South Atlantic Region

Legal Authority: 16 U.S.C. 1801 et seq.

Abstract: The purpose of the amendment is to reduce the spatial and temporal coverage of the regulations proposed in Amendment 17A to the Snapper-Grouper FMP, based on the most recent scientific information concerning the red snapper stock in the South Atlantic.

Timetable:

Action | Date | FR Cite
NPRM | 02/18/11 | 76 FR 9530
NPRM Comment Period End | 03/21/11 |
Final Action | 04/28/11 | 76 FR 23728

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BA51

281. Amendment to the Fishery Management Plan for the Reef Fish Resources of the Gulf of Mexico to Set Total Allowable Catch for Red Snapper

Legal Authority: 16 U.S.C. 1801 et seq.

Abstract: This action adjusts the commercial and recreational quotas of red snapper to 3.66 and 3.525 MP, respectively, consistent with the 51:49 ratio for the commercial and recreational allocation of red snapper established in Amendment 1 to the FMP. NOAA Fisheries Service will provide an estimated projection for the number of days in the 2011 recreational fishing season after the 2010 harvest numbers are received.

In addition, NOAA Fisheries Service makes administrative adjustments to the reef fish individual fishing quota program via the authority in section 305(d) of the Magnuson-Stevens Act. This action revises the definition of “actual ex-vessel value” in section 622.2 of the regulations. The intent of this revision is to allow NOAA Fisheries Service to more accurately analyze the total value of the Gulf red snapper and grouper and tilefish fisheries. Similarly, NOAA Fisheries Service revises regulations at section 622.16 and section 622.20 to extend the existing 12-hour maintenance window with an additional 8 hours to allow for more time to conduct end of year maintenance. It also clarifies how fishermen can submit an IFQ landing notification during the maintenance window.

Lastly, NOAA Fisheries Service removes an obsolete regulation. Regulations implementing Amendment 30B to the FMP, removed the February 15 to March 15 seasonal closure of the commercial sector of the Gulf reef fish fishery for gag, red grouper, and black grouper. However, NOAA Fisheries Service inadvertently did not remove section 622.45(c)(4) in the final rule for Amendment 30B, which includes the prohibition on the sale/purchase of gag, black grouper, or red grouper harvested from the Gulf by a vessel with a valid Federal commercial permit for Gulf reef fish from February 15 until March 15, each year. This action removes this obsolete paragraph.

Timetable:

Action | Date | FR Cite
NPRM | 02/22/11 | 76 FR 9735
NPRM Comment Period End | 03/24/11 |
Final Action | 04/29/11 | 76 FR 23911
Final Action Effective | 05/31/11 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BA54

282. Atlantic Highly Migratory Species; Atlantic Bluefin Tuna Quotas and Atlantic Tuna Fisheries Management Measures

Legal Authority: 16 U.S.C. 1801 et seq.; 16 U.S.C. 971 et seq.

Abstract: This action modifies Atlantic Bluefin Tuna (BFT) base quotas for all domestic fishing categories; establishes BFT quota specifications for the 2011 fishing year; reinstates pelagic longline target catch requirements for retaining BFT in the Northeast Distant Gear Restricted Area (NED); amends the Atlantic tunas possession-at-sea and landing regulations to allow removal of tail lobes; and clarifies the transfer-at-sea regulations for Atlantic tunas. This action is necessary to implement recommendations of the International Commission for the Conservation of Atlantic Tunas (ICCAT), as required by the Atlantic Tunas Convention Act (ATCA), and to achieve domestic management objectives under the Magnuson-Stevens Fishery Conservation and Management Act (Magnuson-Stevens Act). NMFS solicited written comments and held public hearings to receive oral comments on these actions.

Timetable:

Action | Date | FR Cite
NPRM | 03/14/11 | 76 FR 13583
NPRM—Correction | 03/21/11 | 76 FR 15276
Notice of Public Meetings | 04/04/11 | 76 FR 18504
NPRM Comment Period End | 04/28/11 |
Final Action | 07/05/11 | 76 FR 39019

Regulatory Flexibility Analysis Required: Yes.

Agency Contact: Margo Schulze-Haugen, Supervisory Fish Management Officer, Department of Commerce, National Oceanic and Atmospheric Administration, 1315 East-West Highway, Silver Spring, MD 20910, Phone: 301 713-0234, Fax: 301 713-1917, Email: margo.schulze-haugen@noaa.gov.

RIN: 0648-BA65

283. Catch Reporting Requirements in the Atlantic Herring Fishery

Legal Authority: 16 U.S.C. 1801 et seq.

Abstract: The goal of the catch reporting rulemaking is to improve monitoring of the Annual Catch Limit (ACL) and sub-ACLs for each management area in the Atlantic herring fishery. Requirements under consideration include: Daily reporting via vessel monitoring systems for limited access herring vessels; weekly reporting via the interactive voice response system for open access vessels; and weekly submission of vessel trip reports for limited access and/or open access vessels.

Timetable:

Action | Date | FR Cite
NPRM | 06/15/11 | 76 FR 34947
NPRM Comment Period End | 06/30/11 |
Final Action | 09/01/11 | 76 FR 54385

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-BA79

284. Framework Adjustment 1 to the Northeast Skate Complex FMP

Legal Authority: 16 U.S.C. 1801 et seq.

Abstract: Framework Adjustment 1 to the Skate FMP adjusts the possession limits for the skate wing fishery in order to slow the rate of skate wing landings, so that the available Total Allowable Landings limit (TAL) is taken by the fishery over a longer duration in the fishing year than occurred in 2010. The action also allows vessels that process skate wings at sea to land skate carcasses for sale into the bait market, without counting the carcass landings against the TAL (skate wings are already converted to live weight for monitoring).

Timetable:

Action | Date | FR Cite
NPRM | 04/04/11 | 76 FR 18505
NPRM Comment Period End | 04/19/11 |
Final Action | 05/17/11 | 76 FR 28328

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-BA91

285. 2011 Summer Flounder, Scup, and Black Sea Bass Recreational Management Measures and Scup Specification Increase (Increased 2011 Total Allowable Landings)

Legal Authority: 16 U.S.C. 1801

Abstract: This rulemaking conducts two related actions. It publishes an increase to the previously established 2011 scup TAC and TAL, and it proposes management measures to achieve recreational harvest limits for the summer flounder, scup, and black sea bass recreational fisheries. Recreational management measures include recreational possession limits, minimum fish sizes, and seasonal closures.

Timetable:

Action | Date | FR Cite
NPRM | 04/21/11 | 76 FR 22350
NPRM Comment Period End | 05/23/11 |
Final Action | 06/30/11 | 76 FR 38307
Final Action Effective | 08/01/11 |

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-BA92

286. Fisheries Off West Coast States; Pacific Coast Groundfish Fishery; 2011 Tribal Fishery for Pacific Whiting

Legal Authority: 16 U.S.C. 1801 et seq.

Abstract: NMFS proposed this rule for the 2011 Pacific whiting tribal fishery under the authority of the Pacific Coast Groundfish Fishery Management Plan (FMP) and the Magnuson-Stevens Fishery Conservation and Management Act (Magnuson Act). Through this action, NMFS establishes an interim 2011 tribal whiting allocation, reporting and closure regulations, and refine existing regulations on tribal whiting reapportionment.

Timetable:

Action | Date | FR Cite
NPRM | 04/05/11 | 76 FR 18709
NPRM Comment Period End | 04/19/11 |
Final Action | 05/19/11 | 76 FR 28897

Regulatory Flexibility Analysis Required: Yes.

Agency Contact: Frank Lockhart, Program Analyst, Department of Commerce, National Oceanic and Atmospheric Administration, 7600 Sand Point Way NE., Seattle, WA 98115, Phone: 206 526-6142, Fax: 206 526-6736, Email: frank.lockhart@noaa.gov.

RIN: 0648-BA95

287. Permits for Capture, Transport, Import, and Export of Protected Species for Public Display, and for Maintaining a Captive Marine Mammal Inventory

Legal Authority: 16 U.S.C. 1372(c)

Abstract: This rule revises and simplifies criteria and procedures specific to permits for taking, transporting, importing, and exporting protected species for public display, and provides convenient formats for reporting marine mammal captive holdings and transports as required by amendments made in 1994 to the Marine Mammal Protection Act.

Timetable:

Action | Date | FR Cite
NPRM | 07/03/01 | 66 FR 35209
NPRM Comment Period Extended | 08/22/01 | 66 FR 44109
NPRM Comment Period End | 09/04/01 |
NPRM Comment Period Extended To | 11/02/01 |
Withdrawn | 08/18/11

Regulatory Flexibility Analysis Required: Yes.

Agency Contact: Dr. Michael Payne, Fishery Biologist, Department of Commerce, National Oceanic and Atmospheric Administration, P.O. Box 21668, Juneau, AK 99802, Phone: 907 586-7235, Fax: 301 713-2521, Email: michael.payne@noaa.gov.

RIN: 0648-AH26

288. Protective Regulations for Killer Whales in the Northwest Region Under the Endangered Species Act and Marine Mammal Protection Act

Legal Authority: 16 U.S.C. 1361 et seq.; 16 U.S.C. 1531 to 1543

Abstract: The National Marine Fisheries Service (NMFS) is considering whether to propose regulations to protect killer whales (Orcinus orca) in the Pacific Northwest. The Southern Resident killer whale distinct population segment (DPS) was listed as endangered under the Endangered Species Act (ESA) on November 18, 2005 (70 FR 69903). In the final rule announcing the listing, NMFS identified vessel effects, including direct interference and sound, as a potential contributing factor in the recent decline of this population. Both the Marine Mammal Protection Act (MMPA) and the ESA prohibit take, including harassment, of killer whales, but these statutes do not prohibit specified acts. NMFS is now considering whether to propose regulations that would prohibit certain acts, under our general authorities under the ESA and MMPA and their implementing regulations. The Proposed Recovery Plan for Southern Resident killer whales (71 FR 69101; Nov. 29, 2006) includes as a management action the evaluation of current guidelines and the need for regulations and/or protected areas. The scope of this ANPRM encompasses the activities of any person or conveyance that may result in the unauthorized taking of killer whales and/or that may cause detrimental individual-level and population-level impacts. NMFS requests comments on whether—and if so, what type of—conservation measures, regulations, and, if necessary, other measures would be appropriate to protect killer whales from the effects of these activities.

Timetable:

Action | Date | FR Cite
ANPRM | 03/22/07 | 72 FR 13464
ANPRM Comment Period End | 04/23/07 |
NPRM | 07/29/09 | 74 FR 37674
NPRM Comment Period Extended | 10/19/09 | 74 FR 53454
NPRM Comment Period End | 10/27/09 |
NPRM Extended Comment Period End | 01/15/10 |
Final Action | 04/14/11 | 76 FR 20870
Final Action Effective | 05/16/11

Regulatory Flexibility Analysis Required: Yes.

Agency Contact: James H. Lecky, Director, Office of Protected Resources, Department of Commerce, National Oceanic and Atmospheric Administration, 1315 East-West Highway, Silver Spring, MD 20910, Phone: 301 713-2332, Fax: 301 427-2520, Email: jim.lecky@noaa.gov.

RIN: 0648-AV15

289. Critical Habitat Designation for Cook Inlet Beluga Whale Under the Endangered Species Act

Legal Authority: 16 U.S.C. 1531 et seq.

Abstract: The National Marine Fisheries Service (NMFS) listed the Cook Inlet beluga whale Distinct Population Segment as endangered under the Endangered Species Act on October 22, 2008. NMFS is required to designate critical habitat no later than one year after the publication of a listing. NMFS published a proposed rule on December 2, 2009, and now needs to finalize the rule within one year from publication of the proposed rule (by December 2, 2010).

Timetable:

Action | Date | FR Cite
ANPRM | 04/14/09 | 74 FR 17131
ANPRM Comment Period End | 05/14/09 |
NPRM | 12/02/09 | 74 FR 63080
NPRM Comment Period Extended | 01/12/10 | 75 FR 1582
NPRM Comment Period End | 02/01/10 |
Final Action | 04/11/11 | 76 FR 20180

Regulatory Flexibility Analysis Required: Yes.

Agency Contact: Marta Nammack, Office of Protected Resources, Department of Commerce, National Oceanic and Atmospheric Administration, 1315 East-West Highway, Silver Spring, MD 20910, Phone: 301 713-1401, Fax: 301 427-2523, Email: marta.nammack@noaa.gov.

RIN: 0648-AX50

290. Taking of Marine Mammals Incidental to Specified Activities; Taking Marine Mammals Incidental to Training Operations Conducted Within the Gulf of Mexico Range Complex

Legal Authority: 16 U.S.C. 1361 et seq.

Abstract: NMFS has received requests from the U.S. Navy (Navy) for authorizations for the take of marine mammals incidental to training and operational activities conducted by the Navy's Atlantic Fleet within Gulf of Mexico (GOMEX) Range Complex for the period beginning December 3, 2009, and ending December 2, 2014. Pursuant to the implementing regulations of the Marine Mammal Protection Act (MMPA), NMFS issues regulations to govern that take.

Timetable:

Action | Date | FR Cite
NPRM | 07/14/09 | 74 FR 33960
NPRM Comment Period End | 08/13/09 |
Final Action | 02/17/11 | 76 FR 9250

Regulatory Flexibility Analysis Required: Yes.

Agency Contact: James H. Lecky, Director, Office of Protected Resources, Department of Commerce, National Oceanic and Atmospheric Administration, 1315 East-West Highway, Silver Spring, MD 20910, Phone: 301 713-2332, Fax: 301 427-2520, Email: jim.lecky@noaa.gov.

RIN: 0648-AX86

DEPARTMENT OF COMMERCE (DOC)

Patent and Trademark Office (PTO)

Final Rule Stage

291. Adjustment of USPTO Fees for Fiscal Year 2012

Legal Authority: 35 U.S.C. 119; Pub. L. 109-383; Pub. L. 110-116; Pub. L. 110-137; Pub. L. 110-149; Pub. L. 110-161; Pub. L. 110-5; Pub. L. 110-92; 35 U.S.C. 376; 35 U.S.C. 120; 35 U.S.C. 41; 35 U.S.C. 132(b)

Abstract: The United States Patent and Trademark Office (USPTO) takes this action to adjust certain patent fee amounts for fiscal year 2012 to reflect fluctuations in the Consumer Price Index for All Urban Consumers (CPI-U). The patent statute provides for the annual CPI-U adjustment of patent fees set by statute to recover the higher costs associated with doing business.

Timetable:

Action | Date | FR Cite
NPRM | 06/27/11 | 76 FR 37296
NPRM Comment Period End | 07/27/11 |
Final Rule | 12/00/11 |
Final Rule Effective | 12/00/11

Regulatory Flexibility Analysis Required: Yes.

Agency Contact: Walter Schlueter, Budget Analyst—Fees and Forecasting, Department of Commerce, Patent and Trademark Office, P.O. Box 1450, Alexandria, VA 22313, Phone: 571 272-6299, Fax: 571 273-6299, Email: walter.schlueter@uspto.gov.

RIN: 0651-AC44

DEPARTMENT OF COMMERCE (DOC)

Patent and Trademark Office (PTO)

Completed Actions

292. Revision of USPTO Fees for Fiscal Year 2011

Legal Authority: Pub. L. 109-383; Pub. L. 110-116; Pub. L. 110-137; Pub. L. 110-149; Pub. L. 110-161; Pub. L. 110-5; Pub. L. 110-92; 35 U.S.C. 132(b); 35 U.S.C. 120; 35 U.S.C. 119; 35 U.S.C. 41; 35 U.S.C. 376

Abstract: The United States Patent and Trademark Office (USPTO) takes this action to adjust certain patent and trademark fee amounts set in the aggregate to recover the estimated cost to the USPTO for processing activities and services and materials relating to patents and trademarks, respectively, including proportionate shares of the administrative costs of the USPTO.

Timetable:

Action | Date | FR Cite
Withdrawn | 07/15/11

Regulatory Flexibility Analysis Required: Yes.

Agency Contact: Walter Schlueter, Budget Analyst—Fees and Forecasting, Department of Commerce, Patent and Trademark Office, P.O. Box 1450, Alexandria, VA 22313, Phone: 571 272-6299, Fax: 571 273-6299, Email: walter.schlueter@uspto.gov.

RIN: 0651-AC43

[FR Doc. 2012-1641 Filed 2-10-12; 8:45 am]

BILLING CODE 3510-12-P